POSTAL SERVICE

Privacy Act of 1974, System of Records

AGENCY: Postal Service.

ACTION: Notice of new and deleted systems of records.

SUMMARY: The United States Postal Service® (USPS®) is publishing this notice in accordance with subsection (e)(4) of the Privacy Act of 1974 (5 U.S.C. 552a), which requires an agency to issue notice of the existence and character of its systems of records upon establishment or revision. In this notice, the USPS is revising and publishing its Privacy Act systems of records in their entirety. The revised systems of records are better organized and are written with clarity as a goal. The systems of records incorporate Privacy Act and USPS privacy policies, and reflect USPS emphasis on industry best practices to protect privacy. Routine uses have been revised to more clearly communicate circumstances under which personal information might be disclosed.

DATES: Any interested party may submit written comments about this proposed action. Sections B through E will become effective without further notice June 8, 2005, unless comments received on or before that date result in a contrary determination.

ADDRESSES: Please address your comments to the Privacy Office, United States Postal Service, 475 L' Enfant Plaza, SW., Room 10433, Washington, DC 20260-2200. Copies of all written comments will be available at this address for public inspection and photocopying between 8 a.m. and 4 p.m., Monday through Friday.

FOR FURTHER INFORMATION CONTACT: Privacy Office, United States Postal Service, Room 10433, Washington, DC 20260-2200, Telephone: 202-268-5959.

SUPPLEMENTARY INFORMATION: For over two centuries, the USPS has valued privacy and built a brand that customers trust. Part of the USPS privacy framework is compliance with the Privacy Act of 1974, when the USPS maintains information about customers, employees, and other individuals in a system of records. A system of records is a file, database, or program from which personal information is retrieved by name or other personal identifier.

In this notice, the USPS is publishing and revising the complete set of its Privacy Act systems of records. The USPS systems of records is divided into two categories: general systems and customer systems. General systems cover all employee systems, as well as those related to finance, contractors, property, investigations, litigation, and administration. Customer systems relate to customers who register for and use postal products and services, or are otherwise covered by the Privacy Act.

The complete text of all USPS systems was last published on October 26, 1989 (54 FR 43652-43715). The general systems were last systematically evaluated and revised on February 23, 1999 (64 FR 8876-8892). Customer systems were overhauled and published in their entirety in the Federal Register on December 16, 2002 (67 FR 77086-77104). Individual systems have also been created and amended over time as appropriate.

As a general rule, most revisions described in this notice concern USPS general systems of records. The revisions have been made to reflect current management and storage of personal information. In undertaking this effort, the USPS used a methodology similar to that employed to reorganize customer systems of records on December 16, 2002 (67 FR 77086-77104). General systems have been reorganized and reduced in number from 73 to 28. The systems are organized around major employee and other activities, where activities are logically grouped and practices have been standardized. This provides for more consistent practices and ease of use for covered individuals and Postal Service™ personnel with compliance responsibilities. A new system for emergency management records has also been added.

In addition, revisions have been made to the existing 17 customer systems. These revisions involve updates that have occurred since the 2002 Federal Register notice. The revisions also reflect updates needed to present USPS systems of records, both general and customer systems, as an integrated and comprehensive package. Examples of these updates include renumbering systems and integrating routine uses. A commercial database has been added as a records source to four customer systems in order to support USPS call center operations.

A single set of standard routine uses for general and customer systems has been created. The standard routine uses show which apply to general systems and which apply to customer systems. The standard routine uses have also been integrated to show where a routine use is the same for both general and customer systems. Unnecessary or redundant routine uses have been eliminated.

The revised systems of records provide a more concise, accurate, and understandable picture to employees and to the public of the personal information collected and maintained. The improved organization of records will also assist USPS staff in the performance of records cataloging and searches. The ultimate effect is an improvement in the privacy of individuals covered by USPS systems of records.

This notice publishes the following:

Explanation (Section A)

Privacy Act protections (Section B)

Index of systems of records (Section C)

Authorized disclosures and routine uses (Section D)

Complete text of systems of records (Section E)

Section A. Explanation

Described below are (I) changes impacting all general systems of records; (II) changes to specific systems of records (both general and customer systems); (III) explanation of the new system for emergency management records; (IV) changes to routine uses; and (V) table of deleted systems and the revised systems into which records have been incorporated. The revised systems of records then follow in their entirety.

I. Changes Impacting All General Systems of Records

All general systems of records have been revised and reorganized from 73 to 28 systems. General systems contain all non-customer records covered by the Privacy Act, including records relating to employees, finance, contractors, property, investigations, litigation, and other administrative matters. The reorganization culminating in this notice used methods similar to those employed earlier to reorganize customer records which were published in the Federal Register on December 16, 2002 (67 FR 77086-77104).

Existing general systems contained many outdated features. These systems have been corrected to reflect current practices. The titles of general systems are now more indicative of their content and scope, and will be more readily apparent to the reader. Management practices and system language has been updated and standardized. This includes all aspects of records systems, such as regarding covered individuals, records categories, records sources, safeguards, retention, routine uses, disposal, and exemptions to disclosure. Standardized terminology has been used to describe safeguards, retention, and disposal methods. Outdated facility nomenclature has been corrected under system location. Outdated system manager designations have been corrected to reflect current responsibility. The USPS has replaced employees' Social Security Number (SSN) as the employee identifier with a new nine-digit Employee Identification Number (EIN). The EIN has been incorporated in all relevant employee systems of records.

II. Changes to Specific Systems of Records

The following describes substantive changes that have been made to specific general and customer systems of records.

General Systems of Records

USPS 100.000 General Personnel Records, which includes the employee official personnel folder (OPF) as a records category, was corrected to comply with a union agreement promulgated since the system was last revised regarding the maintenance of bargaining unit employees' discipline and adverse action records.

USPS 100.100 Recruiting, Examining, and Placement Records was revised to clearly distinguish as separate records categories the preemployment investigative records compiled directly by USPS and investigative records compiled by the Office of Personnel Management at the request of USPS.

USPS 100.700 Medical Records was made compatible with USPS management instructions by aligning the description of records categories, including alcohol/drug testing records. The system was revised to correctly describe records collected by the Headquarters Health and Fitness Center as being USPS records.

USPS 100.800 Employee Accident Reports was corrected to comply with a union agreement promulgated since the system of records was last revised regarding disclosures.

USPS 100.950 Employee Assistance Program (EAP) Records was updated to indicate that EAP records, with the exception of two USPS facilities still operating internal EAP offices, are now under the control of the Federal Occupational Health Service and as such are not records under the control of USPS.

USPS 700.300 Inspector General Investigative Records has been amended to limit disclosures to other Federal offices of Inspectors General or to the President's Council on Integrity and Efficiency. Records originating from any other USPS system, which might be duplicated in or incorporated into this system, must first be redacted of all personally identifiable information.

Customer Systems of Records

USPS 840.000 Customer Mailing and Delivery Instructions. This system has been amended to include name and address records related to rural route customers that are maintained on Postal Service (PS) Form 4232-A. These records had been addressed in the general system USPS 010.080, Rural Carrier Route Records. Because these records relate to customers, it is more appropriate for them to be covered by a customer system.

850.000 Auction Files. References to online auctions have been eliminated to reflect current USPS auction practices.

860.000 Financial Transactions. This system has been corrected to link the exemptions paragraph to the appropriate system. When last published on December 31, 2002 (67 FR 79858-79858), the exemption improperly referenced an obsolete system name and number.

880.000 Post Office and Retail Services. The special routine uses were amended to more clearly describe the limitations on information that may be disclosed from PS Form 1093, Application for Post Office Box or Caller Service, depending on the category of requester.

USPS 800.000 Address Change, Mail Forwarding, and Related Services; USPS 810.300 Offline Registration, Payment, and Fulfillment; USPS 820.200 Mail Management and Tracking Activity; and USPS 830.000 Customer Service and Correspondence. The record sources for these four systems have been amended to include commercially available source(s) of names, addresses, and telephone numbers for use by USPS call centers. The USPS is at the forefront of providing customer services and transactions via all channels, including by phone. As a consequence, the USPS performs Privacy Act-covered transactions in a call center environment. As an example, a customer may request by telephone that his or her mail be held at the local Post Office™ for a certain period of time. The USPS has built systems of records, and has also developed and implemented a methodology to provide a Privacy Act notice, for these transactions. The USPS now plans to use commercial source(s) to reflect industry standard practices in call center operations to improve speed and accuracy of customer service.

The USPS has carefully considered and incorporated privacy features regarding use of commercial source(s) for call centers as follows. The USPS has limited the type and amount of data acquired from the commercial source(s) to include only telephone numbers, names, and addresses. Strict limitations have also been placed around use of the data by USPS call center operations, as well as how data is shared with the commercial source(s).

When customers call 1-800-ASK-USPS or other USPS call center numbers for a transaction or inquiry covered by the Privacy Act, they will be informed their information is Privacy Act-protected. They will be offered the opportunity to hear the USPS privacy statement prior to the automated system or call center operator requesting their telephone number. Customers will be told that their phone number is requested to help locate their street address. They may decline to provide their number and still be able to access the desired service. When customers provide their phone number, USPS uses the commercial source(s) to return a name and address, in the proper USPS format, associated with the phone number. The automated system or operator will ask the customers to confirm that the address is correct. If confirmed, the system or operator will use the address to complete the transaction, rather than asking customers to provide it and entering it into the USPS system. This allows the transaction to be faster, avoids keying errors, and increases the rate of properly formatted addresses. If the name and/or address returned by the commercial source(s) are/is not those/that of the customer, the correct information is obtained from the customer via the current practice without use of commercial source(s).

After the transaction is complete, the USPS may retain the name and address provided by the commercial source(s). The information will be managed in accordance with the applicable system of records. The commercial source(s) will not obtain any new information about the customer from the USPS. It already possessed the phone number, and any corrections or other information supplied by the customer will not be shared with the commercial source(s).

III. Explanation of New System of Records for Emergency Management

A new system of records, USPS 500.300 Emergency Management Records, is being established in support of a USPS emergency management program. This system includes records generated as a result of USPS obligations to mitigate, prepare for, respond to, or recover from any natural disaster, man-made hazard, or other emergency event. The system includes records relating to emergency management personnel, as well as records relating to emergency evacuees and unaccounted for individuals in the event of a disaster, hazard, or event.

IV. Changes to Routine Uses

The USPS divides its routine uses into standard routine uses and special routine uses. Standard routine uses, listed in Section D, apply to multiple systems of records. Each system of records described in Section E will indicate which standard routine uses apply, along with applicable special routine use(s), if any. Described below are changes made to standard and special routine uses.

Standard Routine Uses

Previously, USPS maintained separate sets of standard routine uses for general and customer systems. This notice integrates the two sets into a single set of 11 standard routine uses:

Disclosure Incident to Legal Proceedings

Disclosure for Law Enforcement Purposes

Disclosure to Congressional Office

Disclosure to Agents or Contractors

Disclosure to Auditors

Disclosure to Labor Organizations

Disclosure to Government Agencies

Disclosure to Equal Employment Opportunity Commission

Disclosure to Merit Systems Protection Board or Office of the Special Counsel

Disclosure to Agencies and Entities for Financial Matters

Disclosure for Customer Service Purposes

Following is a description of the 11 revised standard routine uses, and the two standard routine uses that have been eliminated.

Disclosure Incident to Legal Proceedings. This routine use was formerly titled Disclosure Incident to Litigation as it applied to general systems and Disclosure Incident to Legal Proceedings as it applied to customer systems. The two routine uses have been integrated into one routine use applicable to both systems. Disclosure of records to former USPS employees or contractors has been added to conform to a litigation routine use recommended by the Department of Justice. Disclosure to a bar association or similar authority has also been removed from certain systems as a special routine use and added as part of this standard routine use, since the disclosure is related to litigation and may be applicable to all systems.

Disclosure for Law Enforcement Purposes. This routine use has been revised to place all standard law enforcement disclosures together for ease of reference. The routine use differentiates the conditions of such disclosures applicable to general and customer systems.

Disclosure to Congressional Office. This routine use had been two separate routine uses for customers and general systems which were almost identical. This has been made an integrated routine use applicable to both systems, with minor editorial changes to existing language.

Disclosure to Agents or Contractors. This routine use integrates disclosures applicable to customer and general systems. The word ‘partners’ which had been included in the title of the customer routine use has been eliminated because it is considered redundant. The new form of this routine use has been supplemented to include the potential for disclosing records to an agent or contractor relating to investigations or performance of their employee(s).

Disclosure to Auditors. This routine use existed in slightly different forms for customer and general systems. These routine uses have been integrated into one, preserving the customer system version to account for disclosures related to audits by government agencies and other entities, instead of solely by certified public accountants.

Disclosure to Labor Organizations. This routine use is revised to cover legally required disclosures made pursuant to a collective bargaining agreement enforced through the Postal Reorganization Act and not solely through the National Labor Relations Act.

Disclosure to Government Agencies. This routine use was formerly two standard routine uses for general systems, which were named Disclosure Incident to Requesting Information and Disclosure to Requesting Agency. In its notice of December 16, 2002 (67 FR 77086-77104), the USPS merged these two routine uses as they related to customer systems into one routine use to account for disclosures to and from other agencies. The combined form now applies to all systems.

Disclosure to the Equal Employment Opportunity Commission. This routine use has been preserved as is.

Disclosure to the Merit Systems Protection Board or Office of the Special Counsel. This routine use has been preserved as is.

Disclosure to Agencies and Entities for Financial Matters. This routine use is slightly re-titled and expanded to cover disclosures to the Judicial Officer in response to Debt Collection Act petitions by employees.

Disclosure for Customer Service Purposes. This routine use is preserved with minor edits to improve clarity.

Storage. This routine use existed previously as a routine use applicable to general systems. It is deleted because OMB guidance provides that the regular transfer of records to a Federal records center for safekeeping or storage is not deemed a disclosure outside the agency.

Disclosure to Office of Management and Budget. This routine use is deleted because USPS does not experience a demand for this disclosure within the context of private relief legislation.

Elimination of Special Routine Uses in General Systems

Unnecessary or redundant special routine uses were eliminated in general systems. This reduces the number and type of disclosures. It also makes the description of potential disclosures more understandable for individuals whose information is protected by the Privacy Act, as well as Postal Service personnel responsible for disclosing records in compliance with the Act. The prior 73 general systems contained a total of 225 special routine uses. The 28 general systems now contain a total of only 36 special routine uses. Special routine uses were eliminated for several reasons, including improvements made in this notice to the standard routine uses; the special use described a disclosure already permissible by statute or implementing agency rules; or the special use had been made obsolete by changes in law or agency practice. As a general principle, USPS eliminated special routine uses from a system where the records in question could have derived from other USPS systems (a practice known as data recompilation). These disclosures belong more properly as a standard routine use, since applicable to more than one system. Furthermore, this approach ensures that an individual is advised of the disclosure in the Privacy Act notice when data is collected, which data recompilation could circumvent. Special routine uses have only been retained to describe a unique kind of disclosure that applies to that particular system.

V. Table of Deleted Systems

Records from deleted systems of records are incorporated in systems as follows:

020.010 Biographical Summaries of Management Personnel for Press Release; 100.050 Localized Employee Administration Records; 120.036 Discipline, Grievance, and Appeals Records for Nonbargaining Unit Employees; 120.040 Employee Job Bidding Records; 120.070 General Personnel Folders (Official Personnel Folders and Records Related Thereto); and 120.190 Supervisors' Personnel Record are incorporated into 100.000 General Personnel Records.

120.110 Preemployment Investigation Records; 120.130 Postmaster Selection Program Records; and 120.151 Recruiting, Examining, and Appointment Records are incorporated into 100.100 Recruiting, Examining, and Placement Records.

120.100 Performance Awards System Records; 120.153 Individual Performance Evaluation/Measurement; 120.154 Employee Survey Process System Records; and 120.170 Safe Driver Awards Records are incorporated into 100.200 Employee Performance Records.

120.152 Career Development and Training Records and 120.180 Skills Bank are incorporated into 100.300 Employee Development and Training Records.

050.020 Payroll System; 050.040 Uniform Allowance Program; 120.050 Employee Ideas Program Records; 120.099 Injury Compensation Payment Validation Records; 120.240 Garnishment Case Files; and 200.020 Monetary Claims for Personal Property Loss or Damage Involving Present or Former Employees are incorporated into 100.400 Personnel Compensation and Payroll Records.

170.010 Operations Data Collection System-Workload/Productivity Management Records and 170.020 Resource Management/Productivity Records-Resource Management Database are incorporated into 100.500 Personnel Resource Management Records.

120.120 Personnel Research and Test Validation Records and 120.121 Applicant Race, Sex, National Origin, and Disability Status are incorporated into 100.600 Personnel Research Records.

120.020 Blood Donor Records System; 120.090 Medical Records; and 120.091 Vehicle Operators Controlled Substance and Alcohol Testing are incorporated into 100.700 Medical Records.

120.035 Employee Accident Records is amended and renumbered as 100.800 Employee Accident Records.

120.098 Office of Workers' Compensation Program (OWCP) Record Copies is amended and renumbered as 100.850 Office of Workers' Compensation Program (OWCP) Record Copies.

070.040 Employee Inquiry, Complaint, and Investigative Records is amended and renumbered as 100.900 Employee Inquiry, Complaint, and Investigative Records.

120.140 Employee Assistance Program (EAP) Records is amended and renumbered as 100.950 Employee Assistance Program (EAP) Records.

030.010 EEO Discrimination Complaint Files; 030.020 EEO Staff Selection Records; 030.040 Roster of Alternative Dispute Resolution Providers; and 120.220 Personnel Records-Arbitration Case Files are incorporated into 200.000 Labor Relations Records.

050.005 Accounts Receivable Files and 050.060 Accounts Payable Files are incorporated into 300.000 Finance Records.

200.010 Relocation Assistance Claims; 210.010 Architect-Engineers Selection Records; 210.020 Driver Screening System Assignment Records; 210.030 Contractor Employee Fingerprint Records; and 210.040 Supplier and Contractor Records are incorporated into 400.000 Supplier and Tenant Records.

100.010 Carpool Coordination/Parking Services Records; 110.010 Accountable Property Records; and 150.030 Computer Access Records are incorporated into 500.000 Property Management Records.

010.030 Carrier Drive-Out Agreements; 010.040 City Carrier Route Records; 010.080 Rural Carrier Route Records; and 120.210 Vehicle Maintenance Personnel and Operator Records are incorporated into 500.100 Carrier and Vehicle Operator Records.

070.010 Correspondence Files of the Postmaster General; 070.020 Government Officials' Inquiry System; 150.010 Information Disclosure Accounting Records (Freedom of Information Act); and 150.020 Information Disclosure Accounting Records (Privacy Act) are incorporated into 500.200 Controlled Correspondence, FOIA, and Privacy Act Disclosure Records.

500.300 Emergency Management Records is established as a new system of records.

060.010 Consumer Protection Records-Fraud, False Representation, Lottery, and Nonmailability Case Record; 060.020 Consumer Protection Records-Pandering Act Prohibitory Orders; 060.030 Consumer Protection Records-Appeals Involving Mail Withheld from Delivery; and 060.040 Consumer Protection Records-Appeals from Termination of Post Office Box or Caller Service are incorporated into 600.000 Legal Records Related to Mail.

110.020 Possible Infringement of Postal Service Intellectual Property Rights; 190.010 Litigation Records-Miscellaneous Civil Action and Administrative Proceeding Case Files; 190.020 Litigation Records-National Labor Relations Board Administrative Litigation Case Files; 190.030 Litigation Records-Employee and Labor Relations Court Litigation Case Files; and 200.030 Nonmail Monetary Claims-Tort Claims Records are incorporated into 600.100 General Legal Records.

150.015 Freedom of Information Act Appeals and Litigation Records and 150.025 Privacy Act Appeals and Litigation Records are incorporated into 600.200 Privacy Act and FOIA Appeal and Litigation Records.

120.060 Confidential Financial Disclosure Reports and 120.061 Public Financial Disclosure Reports for Executive Branch Personnel are incorporated into 600.300 Public and Confidential Financial Disclosure Reports.

030.030 Equal Employment Opportunity-EEO Administrative Litigation Case File and 120.230 Personnel Records-Adverse Action Appeals (Administrative Litigation Case Files) are incorporated into 600.400 Administrative Litigation Records. 080.010 Inspection Requirements-Investigative File System is amended and renumbered as 700.000 Inspection Service Investigative File System.

080.020 Mail Cover Program Records is amended and renumbered as 700.100 Mail Cover Program Records.

080.030 Vehicular Violations Records System is amended and renumbered as 700.200 Vehicular Violations Records System.

300.010 Office of Inspector General-Investigative File System is amended and renumbered as 700.300 Inspector General Investigative Records.

The following systems are renumbered and amended with respect to their routine uses and to correct minor errors.

500.000 Address Change, Mail Forwarding, and Related Services is amended and renumbered as 800.000 Address Change, Mail Forwarding, and Related Services.

500.100 Address Matching for Mail Processing is amended and renumbered as 800.100 Address Matching for Mail Processing.

510.100 www.usps.com Registration is amended and renumbered as 810.100 www.usps.com Registration.

510.200 www.usps.com Ordering, Payment, and Fulfillment is amended and renumbered as 810.200 www.usps.com Ordering, Payment, and Fulfillment.

510.300 Offline Registration, Payment, and Fulfillment is amended and renumbered as 810.300 Offline Registration, Payment, and Fulfillment.

520.100 Mailer Services-Applications and Approvals is amended and renumbered as 820.100 Mailer Services-Applications and Approvals.

520.200 Mail Management and Tracking Activity is amended and renumbered as 820.200 Mail Management and Tracking Activity.

530.000 Customer Service and Correspondence is amended and renumbered as 830.000 Customer Service and Correspondence.

540.000 Customer Mailing and Delivery Instructions is amended and renumbered as 840.000 Customer Mailing and Delivery Instructions.

550.000 Auction Files is amended and renumbered as 850.000 Auction Files.

560.000 Financial Transactions is amended and renumbered as 860.000 Financial Transactions.

570.100 Trust Funds and Transaction Records is amended and renumbered as 870.100 Trust Funds and Transaction Records.

570.200 Meter Postage and PC Postage Customer Data and Transaction Records is amended and renumbered as 870.200 Meter Postage and PC Postage Customer Data and Transaction Records.

580.000 Post Office and Retail Services is amended and renumbered as 880.000 Post Office and Retail Services.

590.000 Sales, Marketing, Events, and Publications is amended and renumbered as 890.000 Sales, Marketing, Events, and Publications.

600.000 International Services is amended and renumbered as 900.000 International Services.

610.000 Identity and Document Verification Services is amended and renumbered as 910.000 Identity and Document Verification Services.

Section B. Privacy Act Protections

The Privacy Act of 1974, 5 U.S.C. 552a, applies to Federal agencies, including the Postal Service. The Privacy Act provides protections for personal information that an agency maintains in a system of records. A system of records describes a file, database, or program from which information is retrieved about an individual by name or other personal identifier.

The Privacy Act establishes recordkeeping, access, and nondisclosure requirements for information maintained in a system of records. The Privacy Act requires agencies to publish a description of each system of records to provide full information on how personal information within the system of records is treated. This description includes how information is collected, used, disclosed, stored, and disposed of. It also includes how individuals can obtain access to, correct, and amend information about them that is included in the system of records.

The Privacy Act places limitations and requirements on how information from within a system of records can be disclosed, as described in Section D.

Section C. Index of Systems of Records

Part I. General Systems

100.000 General Personnel Records

100.100 Recruiting, Examining, and Placement Records

100.200 Employee Performance Records

100.300 Employee Development and Training Records

100.400 Personnel Compensation and Payroll Records

100.500 Personnel Resource Management Records

100.600 Personnel Research Records

100.700 Medical Records

100.800 Employee Accident Records

100.850 Office of Workers' Compensation Program (OWCP) Record Copies

100.900 Employee Inquiry, Complaint, and Investigative Records

100.950 Employee Assistance Program (EAP) Records

200.000 Labor Relations Records

300.000 Finance Records

400.000 Supplier and Tenant Records

500.000 Property Management Records

500.100 Carrier and Vehicle Operator Records

500.200 Controlled Correspondence, FOIA, and Privacy Act Disclosure Records

500.300 Emergency Management Records

600.000 Legal Records Related to Mail

600.100 General Legal Records

600.200 Privacy Act and FOIA Appeal and Litigation Records

600.300 Public and Confidential Financial Disclosure Reports

600.400 Administrative Litigation Records

700.000 Inspection Service Investigative File System

700.100 Mail Cover Program Records

700.200 Vehicular Violations Records Systems

700.300 Inspector General Investigative Records

Part II. Customer Systems

800.000 Address Change, Mail Forwarding, and Related Services

800.100 Address Matching for Mail Processing

810.100 www.usps.com Registration

810.200 www.usps.com Ordering, Payment, and Fulfillment

810.300 Offline Registration, Payment, and Fulfillment

820.100 Mailer Services—Applications and Approvals

820.200 Mail Management and Tracking Activity

830.000 Customer Service and Correspondence

840.000 Customer Mailing and Delivery Instructions

850.000 Auction Files

860.000 Financial Transactions

870.100 Trust Funds and Transaction Records

870.200 Meter Postage and PC Postage Customer Data and Transaction Records

880.000 Post Office and Retail Services

890.000 Sales, Marketing, Events, and Publications

900.000 International Services

910.000 Identity and Document Verification Services

Section D. Authorized Disclosures and Routine Uses

Under the Privacy Act, information can only be disclosed from a system of records, internally or externally, under one of two conditions:

• The individual has authorized the disclosure in writing.

• The disclosure fits within one of twelve specified categories.

The following is a description of disclosures, including those authorized by the Privacy Act and USPS regulations and routine uses.

D.1. Disclosures Authorized by the Privacy Act

The Privacy Act authorizes disclosures in the following twelve circumstances:

1. To agency employees who need the information to perform their job.

2. As required by the Freedom of Information Act (FOIA).

3. For routine uses for which the agency has provided proper notice.

4. To the Bureau of the Census for purposes related to census and survey activities.

5. To a recipient who provides advance written assurance that the information will only be used for statistical research or reporting, and the information provided does not identify individuals.

6. To the National Archives and Records Administration for historic preservation purposes.

7. To other domestic government agencies for a civil or criminal law enforcement activity if the activity is authorized by law. In such cases, the agency head must specify in writing both the law enforcement activity and the particular information needed.

8. To a person upon a showing of compelling circumstances affecting an individual's health or safety. The agency must send notice of the disclosure to the individual's last known address.

9. To Congress, or to the extent the matter is within their jurisdiction, to any of its committees or subcommittees.

10. To the Comptroller General in the performance of duties of the Government Accountability Office.

11. Pursuant to the order of a court of competent jurisdiction.

12. To a consumer reporting agency in order to collect claims owed to the Government.

The Privacy Act allows agencies to disclose information from a system of records if they establish a routine use describing the disclosure (see #3 above). Under the Privacy Act, routine uses are defined as disclosures that are compatible with the purpose for which the information was collected—in other words, disclosures that are appropriate and necessary for the efficient conduct of government business. Routine uses for each system of records are established by publishing them in a Federal Register notice that describes the system. They must also be disclosed in a notice given to an individual when information is collected directly from the individual. The Privacy Act also allows disclosures required by the Freedom of Information Act (see #2 above). USPS regulations implementing the Privacy Act and FOIA are contained in 39 CFR Parts 261-268.

D.2. Standard Routine Uses

The following standard routine uses apply to USPS systems of records. In general, standard routine uses 1 through 9 apply to general systems—systems relating to employees, finance, investigations, litigation, and other systems not primarily related to USPS customers. General systems are listed in Section C, Part I. In general, standard routine uses 1 through 7, 10, and 11 apply to customer systems of records. These systems, which contain information related to USPS customers, are listed in Section C, Part II. The specific standard routine uses applicable to each system of records, as well as any special routine uses, are described in each system of records in Section E.

1. Disclosure Incident to Legal Proceedings. When the Postal Service is a party to or has an interest in litigation or other legal proceedings before a Federal, state, local, or foreign adjudicative or administrative body or before an arbitrator, arguably relevant records may be disclosed before that body, and/or to the Department of Justice or other legal counsel representing the Postal Service or its employees, and to actual or potential parties or their representatives in connection with settlement discussions or discovery. Arguably relevant records may also be disclosed to former Postal Service employees or suppliers when reasonably necessary to elicit information related to actual or potential litigation. Arguably relevant records may be disclosed to a bar association or similar Federal, state, or local licensing or regulatory authority that relate to possible disciplinary action.

2. Disclosure for Law Enforcement Purposes. For information derived from general systems, when the Postal Service becomes aware of a violation or potential violation of law, whether civil, criminal, or regulatory in nature, or in response to the appropriate agency's request on a reasonable belief that a violation has occurred, records may be referred to the appropriate agency, whether Federal, state, local, or foreign, charged with enforcing or implementing the statute, rule, regulation, or relevant order. For records derived from customer systems, records may be disclosed to appropriate law enforcement agencies to investigate, prevent, or take action regarding suspected illegal activities against the Postal Service; and such customer records may only otherwise be disclosed to law enforcement agencies as required by law.

3. Disclosure to Congressional Office. Records about an individual may be disclosed to a congressional office in response to an inquiry from the congressional office made at the prompting of that individual.

4. Disclosure to Agents or Contractors. Records may be disclosed to entities or individuals under contract or agreement with the Postal Service when necessary to fulfill a Postal Service function, to provide Postal Service products or services to customers, or to provide the contractor with investigative or performance records about the contractor's employees.

5. Disclosure to Auditors. Records may be disclosed to government agencies and other entities authorized to perform audits, including financial and other audits, of the Postal Service and Postal Service activities.

6. Disclosure to Labor Organizations. As required by applicable law, records may be furnished to a labor organization when needed by that organization to perform its duties as the collective bargaining representative of Postal Service employees in an appropriate bargaining unit.

7. Disclosure to Government Agencies. Records may be disclosed to a Federal, state, local, or foreign government agency when necessary in connection with decisions by the requesting agency or by the Postal Service regarding personnel matters, issuance of security clearances, letting of contracts, or decisions to issue licenses, grants, or other benefits. With respect to employee records, such matters include provision of parent locator services; enforcement of child support, tax, and debt obligations; and claims, investigations, and inspections related to occupational safety, injuries, illnesses, and accidents.

8. Disclosure to Equal Employment Opportunity Commission. Records may be disclosed to an authorized investigator, administrative judge, or complaints examiner appointed by the Equal Employment Opportunity Commission when requested in connection with the investigation of a formal complaint of discrimination filed against the Postal Service under 29 CFR Part 1614.

9. Disclosure to Merit Systems Protection Board or Office of the Special Counsel. Records may be disclosed to the Merit Systems Protection Board or Office of the Special Counsel for the purpose of litigation, including administrative proceedings, appeals, special studies, investigations of alleged or possible prohibited personnel practices, and such other functions as may be authorized by law.

10. Disclosure to Agencies and Entities for Financial Matters. Records may be disclosed to credit bureaus, government agencies, and service providers that perform identity verification and credit risk assessment services; to financial institutions or payees to facilitate or resolve issues with payment services; or to government or collection agencies for the purposes of debt collection or responding to challenges to such collection.

11. Disclosure for Customer Service Purposes. Records may be disclosed to entities if the disclosure is part of the service to the customer. This includes disclosures to addressees of mail to process inquiries and claims; entities to which the customer wants to provide identity verification; the State Department for passport processing; international posts or agents to facilitate or process international services, claims, or inquiries; and mailers of sexually-oriented advertisements to provide a list of customers who do not want to receive them.

Section E. Complete Text of Systems of Records

USPS 100.000

SYSTEM NAME:

General Personnel Records.

SYSTEM LOCATION:

All USPS facilities and personnel offices; National Personnel Records Center; Human Resources Information Systems, Headquarters; Computer Operations Service Centers; National Test Administration Center; and contractor sites.

CATEGORIES OF INDIVIDUALS COVERED BY THE SYSTEM:

Current and former USPS employees, their family members, and former spouses who apply and qualify for federal employee benefits under public law.

CATEGORIES OF RECORDS IN THE SYSTEM:

1. Employee and family member information: Name(s), Social Security Number(s), Employee Identification Number, date(s) of birth, place(s) of birth, marital status, postal assignment information, work contact information, home address(es) and phone number(s), finance number(s), duty location, and pay location.

2. Official Personnel Folder (OPF): Records related to pre-employment, prior employment, postal employment, supervisor's letters, notifications of personnel action, benefits, compensation, and monetary awards and other forms of recognition.

3. Automated employee information: Information corresponding to records in OPFs, such as notifications of personnel actions; OPF location; anniversary dates; and tax, retirement, and salary information.

4. Reference copies of all discipline or adverse actions: Letters of warning; notices of removal, suspension, reduction in grade or pay; and letters of decisions; and documents relating to these actions. These are used only to refute inaccurate statements by witnesses before a judicial or administrative body. They may not be maintained in the employee's OPF but must be maintained in a separate file by Labor Relations.

5. Nonbargaining unit employee discipline, grievance, and appeals records.

6. Job bidding records: Records related to the employee's bid for a preferred assignment.

7. Biographical summaries. Records and photographs used for public relations purposes.

AUTHORITY FOR MAINTENANCE OF THE SYSTEM:

39 U.S.C. 401, 410, 1001, 1005, and 1206.

PURPOSE(S):

1. To perform routine personnel functions.

2. To have a source of readily available information on employees for local administrative purposes.

3. To administer the grievance and appeal procedure for nonbargaining unit employees.

4. To match a vacant position to the most qualified candidate in bids for preferred assignment.

5. To provide public relations information on USPS management personnel.

ROUTINE USES OF RECORDS MAINTAINED IN THE SYSTEM, INCLUDING CATEGORIES OF USERS AND THE PURPOSES OF SUCH USES:

Standard routine uses 1 through 9 apply. In addition:

a. Job bidding records may be disclosed on official bulletin boards in Postal Service facilities and to supervisory and other managerial organizations recognized by USPS.

b. Records pertaining to financial institutions and to nonfederal insurance carriers and benefits providers elected by an employee may be disclosed for the purposes of salary payment or allotments, eligibility determination, claims, and payment of benefits.

POLICIES AND PRACTICES FOR STORING, RETRIEVING, ACCESSING, RETAINING, AND DISPOSING OF RECORDS IN THE SYSTEM:

STORAGE:

Automated database, computer storage media, and paper. Duplicates of records in the OPF and automated employee data may be maintained for localized employee administration or supervision. Records may be filed at offices other than where the OPF is, or may be duplicated at a site closer to where the employee works.

RETRIEVABILITY:

By name, Social Security Number, Employee Identification Number, or duty or pay location.

SAFEGUARDS:

Paper records, computers, and computer storage media are located in controlled-access areas under supervision of program personnel. Access to these areas is limited to authorized personnel, who must be identified with a badge. Nonbargaining unit employee discipline, grievance, and appeals records maintained outside the OPF are kept in locked filing cabinets or secured record storage rooms; and related automated records are protected with password security. Computers are protected by mechanical locks, card key systems, or other physical access control methods. The use of computer systems is regulated with installed security software, computer logon identifications, and operating system controls including access controls, terminal and transaction logging, and file management software.

RETENTION AND DISPOSAL:

1. OPF records maintained on the right side of the folder are permanently retained. Temporary OPF records maintained on the left side of the folder are retained 2 years, upon separation, or upon transfer of the employee (if the temporary record is not relevant to the gaining USPS facility), whichever is sooner.

2. Original or copies of discipline or adverse actions are maintained on the left side of the OPF up to 2 years, or, if an additional or more recent disciplinary action has been taken, for a longer period. After 2 years, or lesser time specified in the decision, the employee may request the disciplinary record be purged from the OPF provided no subsequent discipline was issued. Records that support a PS Form 50, Notification of Personnel Action, e.g. the separation of an employee for cause or the resignation of an employee pending charges, are considered permanent records and may not be purged at the request of an employee.

3. Reference copies of discipline or adverse actions. These records are kept for historical purposes and are not to be used for decisions about the employee. The retention of these records may not exceed ten years beyond the employee's separation date. The records are maintained longer if the employee is rehired during the 10-year period. They may not be maintained in the employee's OPF but must be maintained in a separate file by Labor Relations.

4. Grievance and appeal records of nonbargaining unit employees are retained 7 years.

5. Job bidding records are retained 2 years.

6. Biographical summaries are retained for the duration of employment.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

Vice President, Labor Relations, United States Postal Service, 475 L'Enfant Plaza, SW., Washington, DC 20260.

NOTIFICATION PROCEDURE:

Employees wanting to know if information about them is maintained in this system must address inquiries to the facility head where currently or last employed. Headquarters employees must submit inquiries to Corporate Personnel Management, 475 L'Enfant Plaza, SW., Room 1831, Washington, DC 20260. Inquiries must include full name, Social Security Number or Employee Identification Number, name and address of facility where last employed, and the dates of USPS employment.

Former Post Office Department employees (prior to July 1971) having no USPS employment must submit the inquiry to: Assistant Director for Workforce Information, U.S. Office of Personnel Management, 1900 E Street, NW., Washington, DC 20415-6000.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; employees' supervisors; USPS customers; law enforcement agencies; individuals who are personal references; former employers; and other systems of records.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 100.100

SYSTEM NAME:

Recruiting, Examining, and Placement Records.

SYSTEM LOCATION:

Preemployment investigation records are located at USPS personnel offices and contractor locations, except for drug screening and medical examination records, which are maintained in USPS medical facilities and designee offices.

Recruiting, examining, and placement records are located at USPS personnel offices, National Test Administration Center, Computer Operations Service Centers, and contractor locations.

CATEGORIES OF INDIVIDUALS COVERED BY THE SYSTEM:

Current and former USPS employees and applicants for employment.

CATEGORIES OF RECORDS IN THE SYSTEM:

1. Applicant and employee information: Name(s), Social Security Number(s), Employee Identification Number, date(s) of birth, place(s) of birth, postal assignment information, work contact information, home address(es) and phone number(s), finance number(s), duty location, and pay location.

2. Pre-employment investigation information: Records compiled by USPS from character references; former employers; police, military, and driving records; drug screening and medical examinations; and postal inspectors' investigative reports.

3. National Agency Check and Inquiry (NACI): Investigative records requested by USPS and compiled by the Office of Personnel Management (OPM).

4. Recruiting, examining, and placement information: Records related to applications, test scores, and registers.

AUTHORITY FOR MAINTENANCE OF THE SYSTEM:

39 U.S.C. 401, 410, 1001, 1005, and 1206.

PURPOSE(S):

1. To determine suitability for employment.

2. To provide managers, personnel officials, and medical officers with information for recruiting and recommending appointment of qualified individuals.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By applicant or employee name, Social Security Number, Employee Identification Number, duty or pay location, or location where application was made.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Preemployment investigation records are retained 10 years from the date the individual is initially found suitable for employment, or 10 years from the date action was taken to deny or terminate employment.

2. Employment applications are disposed of on expiration of eligibility, unless extended for an additional year at the request of the eligible individual. Employment registers are retained 10 years. Certain forms related to a successful applicant are filed in the Official Personnel Folder as permanent records; and remaining records are retained 6 months. Applications for master instructor positions are retained 3 years after date of selection. Postmaster selection records are retained 2 years.

3. Paper examining answer sheets are retained 6 months; and computer media copies are retained 30 years. Scanned Maintenance Selection System forms are retained 20 years; and related hiring worksheets are retained 5 years.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Individuals wanting to know if information about them is maintained in this system must address inquiries to the facility head where currently or last employed, or where job application was made. Headquarters employees must submit inquiries to Corporate Personnel Management, 475 L'Enfant Plaza, SW., Room 1831, Washington, DC 20260. Inquiries must include full name, Social Security Number or Employee Identification Number, name and address of facility where last employed, and dates of USPS employment or date of application.

For investigative records compiled by OPM, individuals must apply as instructed by OPM.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Applicants; OPM; police, driving, and military records; former employers and named references; medical service providers; school officials; other federal agencies; and state divisions of vocational rehabilitation counselors.

SYSTEMS EXEMPTED FROM CERTAIN PROVISIONS OF THE ACT:

Pursuant to 5 U.S.C. 552a(j) and (k), USPS has established regulations at 39 CFR 266.9 that exempt records in this system depending on their purpose.

USPS 100.200

SYSTEM NAME:

Employee Performance Records.

SYSTEM LOCATION:

USPS facilities where employee performance is evaluated or measured.

CATEGORIES OF INDIVIDUALS COVERED BY THE SYSTEM:

Current and former USPS employees, including supervisors and managers who are rated under an employee survey process or are responsible for a rated work location.

CATEGORIES OF RECORDS IN THE SYSTEM:

1. Employee information: Name, Social Security Number, Employee Identification Number, postal assignment information, work contact information, finance number(s), duty location, and pay location.

2. Employee performance information: Records related to individual performance evaluation and measurement; reports about supervisors and managers who are rated under an employee survey process or are responsible for a rated work location; employee recognition; and safe driver awards.

AUTHORITY FOR MAINTENANCE OF THE SYSTEM:

39 U.S.C. 401, 410, 1001, 1005, and 1206.

PURPOSE(S):

1. To provide managers and supervisors with decision-making information for training needs, promotion, assignment considerations, or other job-related actions.

2. To administer achievement award programs and pay for performance.

3. To improve relations and communication between managers and employees by soliciting employee feedback, and to improve management and supervisor leadership skills.

ROUTINE USES OF RECORDS MAINTAINED IN THE SYSTEM, INCLUDING CATEGORIES OF USERS AND THE PURPOSES OF SUCH USES:

Standard routine uses 1 through 9 apply. In addition:

a. When records about the receipt of an award by an employee, including driver safety records, are of news interest and consistent with the public's right to know, the records may be disclosed to the news media or the National Safety Council.

POLICIES AND PRACTICES FOR STORING, RETRIEVING, ACCESSING, RETAINING, AND DISPOSING OF RECORDS IN THE SYSTEM:

STORAGE:

Automated database, computer storage media, and paper.

RETRIEVABILITY:

By employee name, Social Security Number, Employee Identification Number, or duty or pay location.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Merit performance evaluation records are retained 5 years. Individual performance evaluation and measurement records are retained 10 years or upon separation of the employee, whichever comes first.

2. Incentive award records are retained 4 years. Length of service award records are retained 1 year. Non-USPS awards are retained 2 years. Letters of commendation and appreciation (excluding permanent copies filed on the right side of the OPF) are retained 2 years.

3. Employee survey process records are retained 20 years.

4. Safe Driver Award records are retained 4 years from date of separation, expiration of license, rescission of authorization, transfer of driver into a nondriving status, or other transfer, whichever comes first.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Individuals wanting to know if information about them is maintained in this system must address inquiries to the facility head where currently or last employed. Headquarters employees must submit inquiries to Corporate Personnel Management, 475 L'Enfant Plaza, SW., Room 1831, Washington, DC 20260. Inquiries must include full name, Social Security Number or Employee Identification Number, name and address of facility where last employed, and dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees and employees' supervisor or manager.

USPS 100.300

SYSTEM NAME:

Employee Development and Training Records.

SYSTEM LOCATION:

Management training centers and other USPS facilities where career development and training, skills bank, and curriculum evaluation activities are performed.

CATEGORIES OF INDIVIDUALS COVERED BY THE SYSTEM:

Current and former USPS employees.

CATEGORIES OF RECORDS IN THE SYSTEM:

1. Employee information: Name, Social Security Number, Employee Identification Number, sex, postal assignment information, work contact information, finance number(s), duty location, and pay location.

2. Employee development and training information: Records related to career development, skills bank participation, USPS and non-USPS training, examinations, evaluations of training, and USPS lodging when a discrepancy report is filed against the student about unauthorized activities while occupying the room.

AUTHORITY FOR MAINTENANCE OF THE SYSTEM:

39 U.S.C. 401, 410, 1001, 1005, and 1206.

PURPOSE(S):

1. To provide managers, supervisors, and training and development professionals with decisionmaking information for employee career development, training, and assignment.

2. To make and track employee job assignments, to place employees in new positions, and to assist in career planning and training in general.

3. To provide statistics for personnel and workload management.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By employee name, Social Security Number, or Employee Identification Number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Training records are retained 5 years. Training-related travel records are retained 1 year.

2. Records of nomination for executive leadership are retained 1 year.

3. Examination records are retained 1 year after employee separation.

4. Skills bank records are retained up to 2 years.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Employees wanting to know if information about them is maintained in this system of records must address inquiries to the facility head where currently, or last, employed. Headquarters employees must submit inquiries to Corporate Personnel Management, 475 L'Enfant Plaza, SW., Room 1831, Washington, DC 20260. Inquiries must include full name, Social Security Number or Employee Identification Number, name and address of facility where last employed, and dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; employees' supervisor or manager; and other systems of records.

SYSTEMS EXEMPTED FROM CERTAIN PROVISIONS OF THE ACT:

Pursuant to 5 U.S.C. 552a(j) and (k), USPS has established regulations at 39 CFR 266.9 that exempt records in this system depending on their purpose. The USPS has also claimed exemption from certain provisions of the Act for several of its other systems of records at 39 CFR 266.9. To the extent that copies of exempted records from those other systems are incorporated into this system, the exemptions applicable to the original primary system continue to apply to the incorporated records.

USPS 100.400

SYSTEM NAME:

Personnel Compensation and Payroll Records.

SYSTEM LOCATION:

USPS personnel offices, Integrated Business Solutions Services Centers (IBSSC), Computer Operations Services Centers, Accounting Services Centers, area and district facilities, Headquarters, contractor sites, and all organizational units.

CATEGORIES OF INDIVIDUALS COVERED BY THE SYSTEM:

1. Current and former USPS employees and postmaster relief/replacement employees.

2. Current and former employees' family members, beneficiaries, and former spouses who apply and qualify for benefits.

3. An agent or survivor of an employee who makes a claim for loss or damage to personal property.

CATEGORIES OF RECORDS IN THE SYSTEM:

1. Employee and family member information: Name(s), Social Security Number(s), Employee Identification Number, date(s) of birth, postal assignment information, work contact information, home address(es) and phone number(s), finance number(s), duty location, and pay location.

2. Compensation and payroll information: Records related to payroll, payments, deductions, compensation, and benefits; uniform items purchased; proposals and decisions under monetary awards and suggestion programs; injury compensation; monetary claims for personal property loss or damage; and garnishment of wages.

AUTHORITY FOR MAINTENANCE OF THE SYSTEM:

39 U.S.C. 401, 409, 410, 1001, 1003, 1004, 1005, and 1206; and 29 U.S.C. 2601 et seq.

PURPOSE(S):

1. To support all necessary compensation and payroll activities and related management functions.

2. To generate lists of employee information for home mailings, dues membership, and other personnel support functions.

3. To generate retirement eligibility information and analysis of employees in various salary ranges.

4. To administer the purchase of uniforms.

5. To administer monetary awards programs.

6. To detect improper payment related to injury compensation claims.

7. To adjudicate employee claims for loss or damage to their personal property in connection with or incident to their postal duties.

8. To process garnishment of employee wages.

ROUTINE USES OF RECORDS MAINTAINED IN THE SYSTEM, INCLUDING CATEGORIES OF USERS AND THE PURPOSES OF SUCH USES:

Standard routine uses 1 through 9 apply. In addition:

a. Records pertaining to financial institutions and to nonfederal insurance carriers and benefits providers elected by an employee may be disclosed for the purposes of salary payment or allotments, eligibility determination, claims, and payment of benefits.

b. Records pertaining to supervisors and postmasters may be disclosed to supervisory and other managerial organizations recognized by USPS.

c. Records pertaining to recipients of monetary awards may be disclosed to the news media when the information is of news interest and consistent with the public's right to know.

d. Disclosure of records about current or former Postal Service employees may be made to requesting states under an approved computer matching program to determine employee participation in, and eligibility under, unemployment insurance programs administered by the states (and by those states to local governments), to improve program integrity, and to collect debts and overpayments owed to those governments and their components.

e. Disclosure of records about current or former Postal Service employees may be made to requesting federal agencies or nonfederal entities under approved computer matching programs to make a determination of employee participation in, and eligibility under, particular benefit programs administered by those agencies or entities or by USPS; to improve program integrity; to collect debts and overpayments owed under those programs and to provide employees with due process rights prior to initiating any salary offset; and to identify those employees who are absent parents owing child support obligations and to collect debts owed as a result.

f. Disclosure of records about current or former Postal Service employees may be made, upon request, to the Department of Defense (DoD) under approved computer matching programs to identify Postal Service employees who are ready reservists for the purposes of updating DoD's listings of ready reservists and to report reserve status information to USPS and the Congress; and to identify retired military employees who are subject to restrictions under the Dual Compensation Act and to take subsequent actions to reduce military retired pay or collect debts and overpayments.

g. Disclosure of records about current and former employees may be made to the Selective Service System under an approved computer matching program to identify individuals eligible for registration under the Military Selective Service Act, to determine whether those individuals have complied with registration requirements and to enforce compliance when necessary.

h. Disclosure of records about current or recently terminated Postal Service employees who live or work in Colorado may be made to the Colorado Bureau of Investigation under an approved computer matching program to identify currently or recently terminated employees who have been arrested for violations of law that relate to postal offenses and/or suitability for continued employment, or who are fugitives, and to assist state or local agents to apprehend fugitives.

i. Disclosure of records may be made to the Internal Revenue Service under approved computer matching programs to identify current or former Postal Service employees who owe delinquent federal taxes or returns and to collect the unpaid taxes by levy on the salary of those individuals pursuant to Internal Revenue Code; and to make a determination as to the proper reporting of income tax purposes of an employee's wages, expenses, compensation, reimbursement, and taxes withheld and to take corrective action as warranted.

j. Disclosure of the records about current or recently terminated Postal Service employees may be made to the Department of Transportation (DOT) under an approved computer matching program to identify individuals who appear in DOT's National Driver Register Problem Driver Pointer System. The matching results are used only to determine as a general matter whether commercial license suspension information within the pointer system would be beneficial in making selections of USPS motor vehicle and tractor-trailer operator personnel and will not be used for actual selection decisions.

k. Disclosure of records about current or former Postal Service employees may be made to the Department of Health and Human Services under an approved computer matching program for further release to state child support enforcement agencies when needed to locate noncustodial parents, to establish and/or enforce child support obligations, and to locate parents who may be involved in parental kidnapping or child custody cases.

l. Disclosure of records about current or former Postal Service employees may be made to the Department of the Treasury under Treasury Offset Program computer matching to establish the identity of the employee as an individual owing a delinquent debt to another federal agency and to offset the salary of the employee to repay that debt.

POLICIES AND PRACTICES FOR STORING, RETRIEVING, ACCESSING, RETAINING, AND DISPOSING OF RECORDS IN THE SYSTEM:

STORAGE:

Automated database, computer storage media, and paper.

RETRIEVABILITY:

By employee name, Social Security Number, Employee Identification Number, or duty or pay location.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Leave application and unauthorized overtime records are retained 3 years. Time and attendance records (other than payroll) and local payroll records are retained 3 years. Automated payroll records are retained 10 years.

2. Uniform allowance case files are retained 3 years; and automated records are retained 6 years.

3. Records of approved monetary awards are retained 4 years. Records of proposals not adopted are retained 2 years.

4. Injury compensation records are retained 5 years. Records resulting in affirmative identifications become part of a research case file, which if research determines applicability, become either part of an investigative case record or a remuneration case record that is retained 2 years beyond the determination.

5. Monetary claims records are retained 3 years.

6. Automated records of garnishment cases are retained 6 months. Records located at a Post Office are retained 3 years.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

Vice President, Finance (Controller), United States Postal Service, 475 L'Enfant Plaza, SW., Washington, DC 20260.

NOTIFICATION PROCEDURE:

Employees wanting to know if information about them is maintained in this system must address inquiries to the facility head where currently or last employed. Headquarters employees must submit inquiries to Corporate Personnel Management, 475 L'Enfant Plaza, SW., Room 1831, Washington, DC 20260. Inquiries must include full name, Social Security Number or Employee Identification Number, name and address of facility where last employed, and the dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; employees' supervisor or manager; other systems of records; claimants or their survivors or agents who make monetary claims; witnesses; investigative sources; courts; and insurance companies.

SYSTEMS EXEMPTED FROM CERTAIN PROVISIONS OF THE ACT:

Records in this system relating to injury compensation that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 100.500

SYSTEM NAME:

Personnel Resource Management Records.

SYSTEM LOCATION:

Post Offices; area and district facilities; Human Resources and Operations, Headquarters; and Computer Operations Service Centers.

CATEGORIES OF INDIVIDUALS COVERED BY THE SYSTEM:

Current and former USPS employees.

CATEGORIES OF RECORDS IN THE SYSTEM:

1. Employee information: Name, Social Security Number, employee identification number(s), postal assignment information, work contact information, finance number(s), duty location, and pay location.

2. Employee resource management information: Records related to workload, productivity, scheduling, availability, and absences, including family medical leave absences.

AUTHORITY FOR MAINTENANCE OF THE SYSTEM:

39 U.S.C. 401, 404, 1001, 1003, and 1005; and 29 U.S.C. 2601 et seq.

PURPOSE(S):

1. To administer leave, attendance, and attendance-related awards; and to identify potential attendance problems.

2. To provide operations management with information about employee work schedules, mail volume, and productivity.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By employee name, Social Security Number, employee identification number(s), route number, duty or pay location, or pay period.

SAFEGUARDS:

Paper records, computers, and computer storage media are located in controlled-access areas under supervision of program personnel. Access to these areas is limited to authorized personnel, who must be identified with a badge. Restricted medical information is maintained in a separate locked cabinet under control of the FMLA Coordinator. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Resource management records related to leave application and time and attendance are retained 3 years. Other categories of resource management records are retained 1 year. Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

Senior Vice President, Operations, United States Postal Service, 475 L'Enfant Plaza, SW., Washington, DC 20260.

NOTIFICATION PROCEDURE:

Employees wanting to know if information about them is maintained in this system must address inquiries to the facility head where currently or last employed. Headquarters employees must submit inquiries to Corporate Personnel Management, 475 L'Enfant Plaza, SW., Room 1831, Washington, DC 20260. Inquiries must include full name, Social Security Number or Employee Identification Number, name and address of facility where last employed, and the dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; employees' supervisor or manager; and other systems of records.

USPS 100.600

SYSTEM NAME:

Personnel Research Records.

SYSTEM LOCATION:

USPS Headquarters; National Test Administration Center; Integrated Business Solutions Services Centers (IBSSC); and contractor sites.

CATEGORIES OF INDIVIDUALS COVERED BY THE SYSTEM:

Applicants for USPS employment, USPS employee applicants for reassignment and/or promotion, and employees whose work records or solicited responses are used in research projects.

CATEGORIES OF RECORDS IN THE SYSTEM:

1. Applicant and employee information: Name, Social Security Number or respondent identification code, date of birth, place of birth, postal assignment information, work contact information, home address and phone number(s), finance number(s), duty location, and pay location.

2. Personnel research information: Records related to race, sex, national origin, disability status (only if volunteered by the individual); research project identifiers; and other information pertinent to personnel research.

AUTHORITY FOR MAINTENANCE OF THE SYSTEM:

39 U.S.C. 401, 410, 1001, and 1005.

PURPOSE(S):

1. To support research and development efforts on personnel assessment instruments, workforce analysis, and evaluation of personnel management practices.

2. To assess the impact of selection decisions on applicants in race, sex, national origin, and disability categories.

ROUTINE USES OF RECORDS MAINTAINED IN THE SYSTEM, INCLUDING CATEGORIES OF USERS AND THE PURPOSES OF SUCH USES:

Standard routine uses 1 through 9 apply. In addition:

a. Disclosure of records about applicants for employment with USPS may be made to the Selective Service System under an approved computer matching program to identify individuals eligible for registration under the Military Selective Service Act, to determine whether those individuals have complied with registration requirements, and to enforce compliance when necessary.

POLICIES AND PRACTICES FOR STORING, RETRIEVING, ACCESSING, RETAINING, AND DISPOSING OF RECORDS IN THE SYSTEM:

STORAGE:

Automated database, computer storage media, and paper.

RETRIEVABILITY:

By individual name, Social Security Number or respondent identification code, research project identifiers, duty or pay location, or location where test or survey was administered.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Retention depends on the type of research project, but does not exceed 30 years. Records existing on paper are destroyed by burning, pulping, or shredding. Records existing on computer storage media are destroyed according to the applicable USPS media sanitization practice.

SYSTEM MANAGER(S) AND ADDRESS:

Vice President, Employee Resource Management, United States Postal Service, 475 L'Enfant Plaza SW., Washington, DC 20260.

NOTIFICATION PROCEDURE:

Individuals wanting to know if information about them is maintained in this system of records must address inquiries to the head of the examination center that administered the test. Headquarters employees must submit inquiries to Corporate Personnel Management, 475 L'Enfant Plaza, SW., Room 1831, Washington, DC 20260. In cases of studies involving information not collected through an examination, individuals must address inquiries to the system manager. Inquiries must contain full name, Social Security Number or Employee Identification Number, and date and location of their participation.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

USPS employees and applicants who provide information to personnel research programs; and other systems of records.

SYSTEMS EXEMPTED FROM CERTAIN PROVISIONS OF THE ACT:

Pursuant to 5 U.S.C. 552a(j) and (k), USPS has established regulations at 39 CFR 266.9 that exempt records in this system depending on their purpose. The USPS has also claimed exemption from certain provisions of the Act for several of its other systems of records at 39 CFR 266.9. To the extent that copies of exempted records from those other systems are incorporated into this system, the exemptions applicable to the original primary system continue to apply to the incorporated records.

USPS 100.700

SYSTEM NAME:

Medical Records.

SYSTEM LOCATION:

USPS medical facilities and designee offices; USPS personnel offices; USPS Headquarters Corporate Health and Fitness Center; National Personnel Records Center.

CATEGORIES OF INDIVIDUALS COVERED BY THE SYSTEM:

1. Current and former USPS employees.

2. Individuals who have been offered employment but failed the medical examination before being placed on the rolls, or who declined the offer.

3. Headquarters employees who participate in the Corporate Health and Fitness Program.

4. Employees who volunteer to join the USPS Blood Donor Program.

5. Current and former USPS employees who are or were required to have a commercial driver's license (CDL) or are otherwise subject to controlled substance and alcohol testing.

CATEGORIES OF RECORDS IN THE SYSTEM:

1. Employee or applicant information: Name, Social Security Number, date of birth, postal assignment information, work contact information, finance number(s), duty location, and pay location.

2. Employee Medical Folder: Restricted medical records, administrative medical records, and OWCP-related medical records.

3. Headquarters Corporate Health and Fitness Program: Records volunteered about lifestyle and health.

4. Voluntary blood donation information: Blood type and date of each donation.

5. Controlled substance and alcohol testing information: Records related to alcohol and controlled substance test results, refusals, medical review officer's evaluations, employee statements, and substance abuse professionals' evaluations and referrals.

AUTHORITY FOR MAINTENANCE OF THE SYSTEM:

39 U.S.C. 401, 410, 1001, 1005, and 1206.

PURPOSE(S):

1. To provide all employees with necessary health care and to determine fitness for duty.

2. To provide for a Headquarters health promotion program.

3. To provide the USPS Blood Donation Program with a record of donations.

4. To implement a controlled substance and alcohol testing program for employees in safety-sensitive positions.

5. To provide for the uniform collection and compilation of controlled substance and alcohol test results.

ROUTINE USES OF RECORDS MAINTAINED IN THE SYSTEM, INCLUDING CATEGORIES OF USERS AND THE PURPOSES OF SUCH USES:

Standard routine uses 1 through 9 apply. In addition:

a. Medical records may be disclosed to an employee's private treating physician and to medical personnel retained by USPS to provide medical examinations or treatment for an employee's health or physical condition related to employment.

b. Blood donor records may be disclosed to the American Red Cross in response to an inquiry for available donors having a particular blood type.

POLICIES AND PRACTICES FOR STORING, RETRIEVING, ACCESSING, RETAINING, AND DISPOSING OF RECORDS IN THE SYSTEM:

STORAGE:

Automated database, computer storage media, and paper.

RETRIEVABILITY:

By employee or applicant name, Social Security Number, or duty or pay location.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. The Employee Medical Folder is retained by USPS until the employee is separated from USPS. On an annual basis, records of all employees separated during the prior year are transferred to the National Personnel Records Center and retained for 30 years.

2. Candidate medical information of failed eligible candidates (and those who were determined to be eligible but ultimately declined the offer) is retained 2 years. Computer data are archived from the active database to a history database after 3 years, and retained in the history database 30 years.

3. Corporate Health and Fitness Center records are retained 5 years beyond the membership termination date.

4. Blood donor records are retained 5 years after termination of employment.

5. Alcohol test results indicating a breath alcohol concentration of 0.02 or greater, verified positive controlled substance test results, refusals, medical review officer's evaluations, employee statements, and substance abuse professionals' evaluations and referrals are retained 5 years. Alcohol test results indicating a breath alcohol concentration of less than 0.02, and negative and canceled controlled substance test results, are retained 1 year.

Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Individuals wanting to know if information about them is maintained in this system must address inquiries to the facility head where currently or last employed, or where job application was made. Headquarters employees must submit inquiries to the National Medical Director, Health and Resources, 475 L'Enfant Plaza, SW., Room 2641, Washington, DC 20260. Inquiries must include full name, Social Security Number or Employee Identification Number, name and address of facility where last employed, and dates of USPS employment or date of application.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; applicants for employment; USPS and Department of Veterans Affairs medical staff; USPS designee testing facilities; substance abuse professionals; and designated contractors.

USPS 100.800

SYSTEM NAME:

Employee Accident Records.

SYSTEM LOCATION:

Safety offices at USPS facilities.

CATEGORIES OF INDIVIDUALS COVERED BY THE SYSTEM:

USPS employees who sustain an on-the-job accident or an occupational injury or illness.

CATEGORIES OF RECORDS IN THE SYSTEM:

1. Employee information: Name, Social Security Number, Employee Identification Number, sex, age, postal assignment information, work contact information, finance number(s), duty location, and pay location.

2. Accident information: Records related to accidents and injuries such as circumstances and factors of accident or injury, statements of employee and witnesses, investigative documents, and compensation claims.

AUTHORITY FOR MAINTENANCE OF THE SYSTEM:

39 U.S.C. 401, 410, 1001, and 1005.

PURPOSE(S):

1. To administer a program to collect and analyze occupational safety and health statistics.

2. To permit evaluation and correction of occupational safety and health hazards.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By employee name, Social Security Number, or Employee Identification Number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 5 years following the end of the calendar year of their creation. Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Employees wanting to know if information about them is maintained in this system of records must address inquiries to the facility head where currently, or last, employed. Headquarters employees must submit inquiries to Corporate Personnel Management, 475 L'Enfant Plaza, SW., Room 1831, Washington, DC 20260. Inquiries must include full name, Social Security Number or Employee Identification Number, name and address of facility where last employed, and dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; employees' supervisor or manager; witnesses; physicians; USPS accident reports; and other systems of records.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 100.850

SYSTEM NAME:

Office of Workers' Compensation Program (OWCP) Record Copies.

SYSTEM LOCATION:

USPS personnel offices.

CATEGORIES OF INDIVIDUALS COVERED BY THE SYSTEM:

USPS employees who file for injury compensation.

CATEGORIES OF RECORDS IN THE SYSTEM:

1. Employee information: Name, Social Security Number, Employee Identification Number, date of birth, postal assignment information, work contact information, finance number(s), duty location, and pay location.

2. Claim information: Records and supporting information related to the claim, including copies of Department of Labor forms, postal forms and correspondence, and automated payment and accounting records.

AUTHORITY FOR MAINTENANCE OF THE SYSTEM:

39 U.S.C. 401, 410, 1001, and 1005.

PURPOSE(S):

To provide injury compensation to qualifying employees, and to support USPS management decisions and requirements.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By employee name, Social Security Number, or Employee Identification Number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 5 years beyond the end of the calendar year in which the employee's compensation is terminated. Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Employees wanting to know if information about them is maintained in this system of records must address inquiries to the facility head where currently, or last, employed. Headquarters employees must submit inquiries to Corporate Personnel Management, 475 L'Enfant Plaza, SW., Room 1831, Washington, DC 20260. Inquiries must include full name, Social Security Number or Employee Identification Number, name and address of facility where last employed, and dates of USPS employment.

RECORD ACCESS PROCEDURES:

Requests for access must be made in accordance with the Notification Procedure above and USPS Privacy Act regulations regarding access to records and verification of identity under 39 CFR 266.6.

For records maintained by the Department of Labor, individuals must apply as instructed by the Department of Labor.

CONTESTING RECORD PROCEDURES:

See Notification and Record Access Procedures above.

For records maintained by the Department of Labor, individuals must contest records as instructed by the Department of Labor.

RECORD SOURCE CATEGORIES:

Employees; employees' supervisor or manager; witnesses; physicians; other systems of records, and Department of Labor.

USPS 100.900

SYSTEM NAME:

Employee Inquiry, Complaint, and Investigative Records.

SYSTEM LOCATION:

USPS personnel offices; area and district facilities; Post Offices; and contractor sites.

CATEGORIES OF INDIVIDUALS COVERED BY THE SYSTEM:

USPS employees who contact USPS with an inquiry or complaint, and employees who are subjects of management inquiries or investigations of workplace issues.

CATEGORIES OF RECORDS IN THE SYSTEM:

1. Employee information: Name, Social Security Number, Employee Identification Number, postal assignment information, work contact information, finance number(s), duty location, and pay location.

2. Inquiry, complaint, and investigative information: Records related to the subject category of inquiry or complaint, assigned case number, background, and description of inquiry, complaint, or investigation.

AUTHORITY FOR MAINTENANCE OF THE SYSTEM:

39 U.S.C. 401, 410, 1001, 1005, and 1206.

PURPOSE(S):

1. To enable review and response to employee inquiries and complaints.

2. To enable management to initiate, review, process, track, and resolve inquiries, complaints, or concerns about the workplace.

3. To support administrative or court litigation and arbitration proceedings.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By employee name, subject category, or case number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 4 years after response to inquiry, resolution of complaint, or conclusion of investigation. Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Employees wanting to know if information about them is maintained in this system of records must address inquiries to the facility head where currently, or last, employed. Headquarters employees must submit inquiries to Corporate Personnel Management, 475 L'Enfant Plaza, SW., Room 1831, Washington, DC 20260. Inquiries must include full name, Social Security Number or Employee Identification Number, name and address of facility where last employed, and dates of USPS employment.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees, supervisors and managers, and witnesses.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 100.950

SYSTEM NAME:

Employee Assistance Program (EAP) Records.

SYSTEM LOCATION:

EAP Offices at Philadelphia and Los Angeles USPS facilities. This system does not include records maintained by the Federal Occupational Health Service (FOHS) under an interagency agreement with USPS.

CATEGORIES OF INDIVIDUALS COVERED BY THE SYSTEM:

USPS employees and immediate family members who volunteer for or are referred to an internal EAP office at a USPS facility.

CATEGORIES OF RECORDS IN THE SYSTEM:

1. Employee information: Name, Social Security Number, Employee Identification Number, postal assignment information, work contact information, finance number(s), duty location, and pay location.

2. Assistance information: Case number and other personal information acquired during the period of participation.

AUTHORITY FOR MAINTENANCE OF THE SYSTEM:

39 U.S.C. 401.

PURPOSE(S):

To provide EAP counselors with information needed to maintain program operations and to assist EAP participants.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By name, Social Security Number, Employee Identification Number, or participant case number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 3 years from the date of the participant's last activity. Records existing on paper are destroyed by burning, pulping, or shredding. Records existing on computer storage media are destroyed according to the applicable USPS media sanitization practice.

SYSTEM MANAGER(S) AND ADDRESS:

Vice President, Employee Resource Management, United States Postal Service, 475 L'Enfant Plaza, SW., Washington, DC 20260.

NOTIFICATION PROCEDURE:

Employees wanting to know if information about them is maintained in this system of records must address inquiries to the facility head where currently, or last, employed. Inquiries must include full name, Social Security Number or Employee Identification Number, and dates of USPS employment.

For records maintained by the Federal Occupational Health Service (FOHS) under an interagency agreement with USPS, individuals must inquire as instructed by FOHS.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Participating employee, other family members, and EAP counselors.

USPS 200.000

SYSTEM NAME:

Labor Relations Records.

SYSTEM LOCATION:

Labor Relations and Law Department, USPS Headquarters; EEO Compliance and Appeals Processing Centers; area and district facilities; and contractor sites.

CATEGORIES OF INDIVIDUALS COVERED BY THE SYSTEM:

1. Current and former USPS employees, applicants for employment, third-party complainants, and mediators (USPS employees, other federal agency employees, or contract employees) involved in EEO discrimination complaints.

2. USPS employees involved in labor arbitration.

3. USPS employees who are candidates considered by promotion boards for an EEO staff position.

4. Individuals and organizations interested in providing alternative dispute resolution (ADR) services to all disputes, except those arising under USPS collective bargaining agreements.

CATEGORIES OF RECORDS IN THE SYSTEM:

1. EEO discrimination complaint case information: Individuals' names, Social Security Numbers, Employee Identification Numbers, postal assignment information, work contact information, finance number(s), duty location(s), pay location(s), case number, and other complaint, counseling, investigation, hearing, and appeal information describing the case.

2. Labor arbitration information: Records related to labor arbitration proceedings in which USPS is a party.

3. EEO staff position information: Records related to candidates for EEO staff positions, including name, Social Security Number, Employee Identification Number, date of birth, postal assignment information, work contact information, finance number(s), duty location, and pay location.

4. ADR provider information: Records related to ADR providers including name of individual or entity, contact information, capabilities, and performance.

AUTHORITY FOR MAINTENANCE OF THE SYSTEM:

39 U.S.C. 401, 409, 410, 1001, 1005, and 1206.

PURPOSE(S):

1. To adjudicate complaints of alleged discrimination, and to evaluate USPS EEO program effectiveness.

2. To provide advice and representation to USPS in labor arbitration cases.

3. To accomplish EEO staff selection.

4. To determine ADR service provider qualifications.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

EEO discrimination complaint case records are retrieved by case number, complainant's name, Social Security Number, Employee Identification Number, or the location where the complaint was made. EEO staff selection records are retrieved by applicant name or pay location. Other records categories are retrieved by name of subject individual.

SAFEGUARDS:

Paper records, computers, and computer storage media are located in secure file cabinets within locked rooms or within locked filing cabinets. Access to records is limited to individuals whose official duties require such access. Contractors and licensees are subject to contract controls and unannounced on-site audits and inspections. The use of computer systems is regulated with installed security software, computer logon identifications, and operating system controls including access controls, terminal and transaction logging, and file management software.

RETENTION AND DISPOSAL:

1. EEO discrimination complaint case records: Precomplaint records are retained 1 year after submission of a final report. Formal complaint records of closed cases are removed from the system of records quarterly, and retained as follows: Official files are retained 4 years. Copies of official files are retained 1 year. Background documents not in official files are retained 2 years. Records of closed cases on computer storage media are removed 3 years after the closure date and moved to an inactive file for future comparative analyses.

2. Labor arbitration records: Field-level disciplinary and contract application cases are retained 5 years from the date of final decision. National-level contract interpretation cases and court actions are retained 15 years from the date of expiration of the agreement.

3. EEO staff selection records: Staff selection records are retained 3 years from the date the position became vacant.

4. ADR provider records: Records of active providers are retained 1 year beyond the date the provider is removed from or voluntarily withdraws from the program or is otherwise notified of their decertification. Records of prospective providers who are rejected are retained 1 year beyond the year in which their survey was received.

Records existing on paper are destroyed by burning, pulping, or shredding. Records existing on computer storage media are destroyed according to the applicable USPS media sanitization practice.

SYSTEM MANAGER(S) AND ADDRESS:

For EEO discrimination complaint case records, labor arbitration records, EEO staff selection records, and REDRESS ADR staff providers: Vice President, Labor Relations, United States Postal Service, 475 L'Enfant Plaza, SW., Washington, DC 20260.

For records of non-REDRESS ADR staff providers: Senior Vice President, General Counsel, United States Postal Service, 475 L'Enfant Plaza, SW., Washington, DC 20260.

NOTIFICATION PROCEDURE:

Inquiries about EEO discrimination complaint case records must be submitted to the EEO officer at the district, area, or Headquarters level, and must include complainant name, complainant Social Security Number or Employee Identification Number, location, and case number and year. Inquiries about labor arbitration records and ADR provider records must be submitted to the system manager. Inquiries about EEO staff selection records must be addressed to the head of the facility where application was made.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

For EEO discrimination complaint case information: complainants, witnesses, investigators, and respondents. For labor arbitration records: employees and other individuals involved in arbitration; counsel or other representatives for parties involved in a case; and arbitrators. For EEO staff position records: employee applicant and other systems of records. For ADR provider records, the provider.

SYSTEMS EXEMPTED FROM CERTAIN PROVISIONS OF THE ACT:

Pursuant to 5 U.S.C. 552a(j) and (k), USPS has established regulations at 39 CFR 266.9 that exempt EEO discrimination complaint case records. Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 300.000

SYSTEM NAME:

Finance Records.

SYSTEM LOCATION:

Computer Operations Service Centers, Integrated Business Solutions Services Centers, Accounting Service Centers, area and district facilities, personnel offices, Headquarters, Post Offices, and contractor sites.

CATEGORIES OF INDIVIDUALS COVERED BY THE SYSTEM:

1. Debtors of USPS, including suppliers, customers, payees of money orders, and current and former employees.

2. Individuals or entities to whom USPS makes payments for materials and services received or expenses incurred in conjunction with official USPS business.

CATEGORIES OF RECORDS IN THE SYSTEM:

1. Accounts receivable information: Debtor's name, contact information; Social Security Number or Employee Identification Number; invoice number, other invoice or claim information, and records obtained from or disclosed to consumer reporting or credit reporting agencies.

2. Accounts payable information: Creditors' name, contact information; vendor identification number, tax identification number, Social Security Number, or Employee Identification Number; and other transaction details such as account, credit card, or financial institution numbers, dates, amounts, and batch numbers.

AUTHORITY FOR MAINTENANCE OF THE SYSTEM:

39 U.S.C. 401, 404, 410, 1001, 1005, 1206, and 2008.

PURPOSE(S):

1. To facilitate debt collection by USPS.

2. To support payments to creditors of USPS.

ROUTINE USES OF RECORDS MAINTAINED IN THE SYSTEM, INCLUDING CATEGORIES OF USERS AND THE PURPOSES OF SUCH USES:

Standard routine uses 1 through 10 apply. In addition:

a. Disclosure of records about USPS customers who write insufficient funds checks for USPS services may be made to the permit holder or presenter of a mailing being made on the customer's behalf. Disclosure is limited to the identity of the customer, the date of the mailing, and the date and amount of the check.

b. Disclosure of records about individuals indebted to USPS may be made to the Office of Personnel Management (OPM) under an approved computer matching program, but limited to those data elements considered relevant to determine whether the indebted individual has retirement funds available for setoff, collecting debts when funds are available for setoff, and writing off debts determined to be uncollectible.

c. Disclosure of records about individuals indebted to USPS may be made to the Defense Manpower Data Center of the Department of Defense under an approved computer matching program to identify and locate such individuals in order to initiate collection of the debts through salary and/or administrative offset procedures.

d. Disclosure of records about individuals indebted to USPS may be made to the Internal Revenue Service under an approved computer matching program to obtain the mailing address of a taxpayer in order to locate the taxpayer to collect a debt owed to USPS.

e. Disclosure of records may be made to the Department of the Treasury under Treasury Offset Program computer matching to establish the identity of a current or former Postal Service Employee as an individual owing a delinquent debt to another federal agency and to offset the salary of or payments to the employee to repay that debt.

POLICIES AND PRACTICES FOR STORING, RETRIEVING, ACCESSING, RETAINING, AND DISPOSING OF RECORDS IN THE SYSTEM:

STORAGE:

Automated database, computer storage media, and paper.

RETRIEVABILITY:

Accounts receivable records are retrieved by debtor name, Social Security Number, Employee Identification Number, or invoice number. Accounts payable records are retrieved by creditor name, creditor identification number, credit card number, financial institution account number, transaction date, or batch number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Accounts receivable records are retained 3 years after the claim is paid. Accounts payable records are retained 3 years beyond the end of the fiscal year in which payment was made. Records existing on paper are destroyed by burning, pulping, or shredding. Records existing on computer storage media are destroyed according to the applicable USPS media sanitization practice.

SYSTEM MANAGER(S) AND ADDRESS:

Vice President, Finance (Controller), United States Postal Service, 475 L'Enfant Plaza, SW., Washington, DC 20260.

NOTIFICATION PROCEDURE:

Inquiries about accounts receivable records must be submitted to the pertinent USPS facility. Inquiries about accounts payable records must be submitted to the system manager. Inquiries must include the individual's full name and tax identification number or Social Security Number.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Debtors and creditors; other systems of records; government travel card vendor; employee-designated financial institutions; and other federal agencies to which creditors have delinquent debts.

USPS 400.000

SYSTEM NAME:

Supplier and Tenant Records.

SYSTEM LOCATION:

USPS Headquarters; supply management offices; facilities service offices; and area and district facilities.

CATEGORIES OF INDIVIDUALS COVERED BY THE SYSTEM:

Suppliers; prospective suppliers; owners and tenants of real property purchased or leased by USPS.

CATEGORIES OF RECORDS IN THE SYSTEM:

1. Supplier information: Records related to suppliers, such as supplier name; Social Security Number or tax identification number; business contact information; contract number; and other contract information; fingerprint cards; and experience and qualifications to provide services including principals' names and company descriptions.

2. Real property owner and tenant information: Records related to compensation claims by occupants of property acquired by USPS, including name and address of claimant, address of vacated dwelling, and itemized expenses.

AUTHORITY FOR MAINTENANCE OF THE SYSTEM:

39 U.S.C. 401.

PURPOSE(S):

1. To administer contracts.

2. To determine supplier suitability for assignments requiring access to mail.

3. To adjudicate claims by owners and tenants of real property acquired by USPS.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

Individual, business, lessor, or claimant name; contract name or number, Social Security Number, tax identification number, business contact information, or address of leased facility.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Unsuccessful proposals and architect/engineering questionnaires are retained 1 year beyond contract award. Contract records are closed at the end of the fiscal year in which they become inactive, and are retained 6 years thereafter.

2. Contractor fingerprint records are retained 2 years beyond contractor termination date.

3. Leased property records are closed at the end of the calendar year in which the lease or rental agreement expires or terminates, and are retained 6 years and 3 months from that date.

4. Real property owner and tenant records are retained 6 years unless required longer for litigation purposes.

Records existing on paper are destroyed by burning, pulping, or shredding. Records existing on computer storage media are destroyed according to the applicable USPS media sanitization practice.

SYSTEM MANAGER(S) AND ADDRESS:

For contracting records: Vice President, Supply Management, United States Postal Service, 475 L'Enfant Plaza, SW., Washington, DC 20260.

For contractor fingerprint screening records: Chief Postal Inspector, Inspection Service, United States Postal Service, 475 L'Enfant Plaza, SW., Washington, DC 20260.

For architecture-engineer selection and real property owner and tenant records: Vice President, Facilities, United States Postal Service, 4301 Wilson Blvd., Suite 300, Arlington, VA 22203.

NOTIFICATION PROCEDURE:

Individuals wanting to know if information about them is maintained in this system of records must address inquiries to the appropriate system manager. Inquiries about highway vehicle contracts must be made to the applicable USPS area office. Real property owner and tenant claimants must address inquiries to the same facility to which they submitted the claim. Inquiries must contain full individual or business name, Social Security Number, tax identification number, contract number, date of contract, or other pertinent identifying information.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Contract employees or businesses; previous dwelling owner or tenant claimant; and USPS claims reviewers and adjudicators.

USPS 500.000

SYSTEM NAME:

Property Management Records.

SYSTEM LOCATION:

All USPS facilities.

CATEGORIES OF INDIVIDUALS COVERED BY THE SYSTEM:

1. Individuals who are granted regular access to USPS facilities through the issuance of a building access badge, or who are assigned accountable property.

2. Individuals with authorized access to USPS computers and information resources, including USPS employees, contractors, and other individuals.

3. Individuals who are members of carpools with USPS employees or otherwise regularly use USPS parking facilities.

CATEGORIES OF RECORDS IN THE SYSTEM:

1. Building access information: Records related to issuance of building access badges, including name, Social Security Number, Employee Identification Number, date of birth, photograph, postal assignment information, work contact information, finance number(s), duty location, and pay location.

2. Property issuance information: Records related to issuance of accountable USPS property, equipment, and controlled documents, including name, Social Security Number, equipment description, equipment serial numbers, and issuance date.

3. Computer access authorization information: Records related to computer users, including logon ID, Social Security Number, Employee Identification Number, or other assigned identifier, employment status information or contractor status information, and extent of access granted.

4. Carpool and parking information: Records related to membership in carpools with USPS employees or about individuals who otherwise regularly use USPS parking facilities, including name, space number, principal's and others' license numbers, home address, and contact information.

AUTHORITY FOR MAINTENANCE OF THE SYSTEM:

39 U.S.C. 401.

PURPOSE(S):

1. To ensure personal and building safety and security by controlling access to USPS facilities.

2. To ensure accountability for property issued to persons.

3. To assign computer logon IDs; to identify USPS computer users to resolve their computer access problems by telephone; and to monitor and audit the use of USPS information resources as necessary to ensure compliance with USPS regulations.

4. To provide parking and carpooling services to individuals who use USPS parking facilities.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

1. Records about building access and issuance of accountable property are retrieved by name, Social Security Number, or Employee Identification Number.

2. Records about authorized access to computer and information resources are retrieved by name, logon ID, Employee Identification Number, or other unique identifier of the individual.

3. Records of carpools and parking facilities are retrieved by name, ZIP Code, space number, or parking license number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Building access and accountable property records are retained until termination of access or accountability.

2. Records of computer access privileges are retained 1 year after all authorizations are cancelled.

3. Records of carpool membership and use of USPS parking facilities are retained 6 years.

Records existing on paper are destroyed by burning, pulping, or shredding. Records existing on computer storage media are destroyed according to the applicable USPS media sanitization practice.

SYSTEM MANAGER(S) AND ADDRESS:

For records of accountable property, carpool membership, and use of USPS parking facilities: Vice President, Facilities, United States Postal Service, 4301 Wilson Blvd., Suite 300, Arlington, VA 22203.

For records of building access and Postal Inspector computer access authorizations: Chief Postal Inspector, Inspection Service, United States Postal Service, 475 L'Enfant Plaza, SW., Washington, DC 20260.

For other records of computer access authorizations: Vice President and Chief Technology Officer, United States Postal Service, 475 L'Enfant Plaza, SW., Washington, DC 20260.

NOTIFICATION PROCEDURE:

Inquiries for records about building access, accountable property, carpool membership, and use of USPS parking facilities must be addressed to the facility head. Inquiries about computer access authorization records must be directed to the Manager, Corporate Information Security, 475 L'Enfant Plaza, SW., Suite 2141, Washington, DC 20260. For Inspection Service computer access records, inquiries must be submitted to the Inspector in Charge, Information Technology Division, 2111 Wilson Blvd., Suite 500, Arlington, VA 22201. Inquiries must include full name, Social Security Number or Employee Identification Number, and period of employment or residency at the location.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; contractors; subject individuals; and other systems of records.

USPS 500.100

SYSTEM NAME:

Carrier and Vehicle Operator Records.

SYSTEM LOCATION:

Headquarters; area and district facilities; processing and distribution centers; bulk mail centers; vehicle maintenance facilities; Post Offices; Integrated Business Solutions Services Centers; Accounting Service Centers; contractor or licensee locations; and facilities employing persons under a highway vehicle contract.

CATEGORIES OF INDIVIDUALS COVERED BY THE SYSTEM:

1. City letter carriers.

2. Current and former USPS employees who operate or maintain USPS-owned or leased vehicles.

3. Contract highway vehicle operators.

CATEGORIES OF RECORDS IN THE SYSTEM:

1. Carrier information: Records related to city letter carriers, including carrier's name, Social Security Number, Employee Identification Number, age, postal assignment information, work contact information, finance number(s), duty location, pay location, route number and work schedule, and effective date of agreement for use of a privately owned vehicle to transport the mail, if applicable.

2. Vehicle operator information: Records of employees' operation or maintenance of USPS-owned or leased vehicles, including employee name, Social Security Number, Employee Identification Number, age, postal assignment information, work contact information, finance number(s), duty location, pay location, work schedule, vehicle operation licensing and driving records, and other records of vehicle operation and maintenance.

3. Highway vehicle contract employee information: Records related to contract employee name, Social Security Number, date and place of birth, address and employment history, driver's license number, and contract assignment information.

AUTHORITY FOR MAINTENANCE OF THE SYSTEM:

39 U.S.C. 401, 403, 404, and 1206.

PURPOSE(S):

1. To reimburse carriers who use privately owned vehicles to transport the mail pursuant to a postmaster agreement.

2. To evaluate delivery and collection operations and to administer these functions.

3. To provide local Post Office managers, supervisors, and transportation managers with information to assign routes and vehicles, and to adjust workload, schedules, and type of equipment operated.

4. To determine contract vehicle operator suitability for assignments requiring access to mail.

5. To serve as a basis for vehicle operator corrective action and presentation of safe driving awards.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By name, Social Security Number, Employee Identification Number, pay location, Postal Service facility name, route number, or vehicle number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Route inspection records and minor adjustment worksheets are retained 2 years where inspections or minor adjustments are made annually or more frequently. Where inspections are made less than annually, records are retained until a new inspection or minor adjustment, and an additional 2 years thereafter.

2. Statistical engineering records are retained 5 years, and may be retained further on a year-to-year basis.

3. Agreements for use of a privately-owned vehicle are retained 2 years. Post office copies of payment authorizations are retained 90 days.

4. Records of employees who operate or maintain USPS vehicles are retained 4 years.

5. Records of highway vehicle contract employees are retained 1 year after contract expiration or contract employee termination.

Records existing on paper are destroyed by burning, pulping, or shredding. Records existing on computer storage media are destroyed according to the applicable USPS media sanitization practice.

SYSTEM MANAGER(S) AND ADDRESS:

Senior Vice President, Operations, United States Postal Service, 475 L'Enfant Plaza, SW., Washington, DC 20260.

NOTIFICATION PROCEDURE:

Current and former employees, and highway vehicle contract employees, wanting to know if information about them is maintained in this system of records must address inquiries to the facility head where currently or last employed. Requests must include full name, Social Security Number or Employee Identification Number, and, where applicable, the route number and dates of any related agreements or contracts.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; contractors; carrier supervisors; route inspectors; and state motor vehicle departments.

USPS 500.200

SYSTEM NAME:

Controlled Correspondence, FOIA, and Privacy Act Disclosure Records.

SYSTEM LOCATION:

Postmaster General, Government Relations, and Consumer Advocate offices, Headquarters; Law Department, Headquarters and field offices; records custodian offices at USPS Headquarters and field facilities.

CATEGORIES OF INDIVIDUALS COVERED BY THE SYSTEM:

1. Individuals who correspond directly with the Office of the Postmaster General.

2. Individuals who have written to non-USPS government officials; congressmen and other government officials who write USPS on behalf of USPS customers or employees; and individuals to whom USPS announcements or greetings are regularly directed.

3. Individuals who submit inquiries and requests for information, including under FOIA.

4. Individuals who submit an inquiry or request for information, or who contest a record, subject to the provisions of the Privacy Act.

CATEGORIES OF RECORDS IN THE SYSTEM:

1. Correspondence information: Records related to controlled correspondence including correspondent's name, address, nature of inquiry, and response.

2. FOIA and Privacy Act Inquiries: Records related to individuals who request information under FOIA or the Privacy Act, or who request amendment of a record, including name, Social Security Number, date of birth, nature of inquiry, response, and records from other systems of records compiled in response to the inquiry.

AUTHORITY FOR MAINTENANCE OF THE SYSTEM:

39 U.S.C. 401, 410, and 412.

PURPOSE(S):

1. To maintain correspondence files for persons who communicate with the Office of the Postmaster General, and correspondence from other government officials.

2. To respond to FOIA and Privacy Act requests, and to comply with FOIA and Privacy Act disclosure accounting and reporting requirements.

ROUTINE USES OF RECORDS MAINTAINED IN THE SYSTEM, INCLUDING CATEGORIES OF USERS AND THE PURPOSES OF SUCH USES:

Standard routine uses 1 through 9 apply. In addition:

a. Records may be provided to a federal agency, when that agency may maintain records relevant to a Privacy Act or FOIA request, for that agency's disclosure determination, or to obtain its assistance on a USPS disclosure determination.

POLICIES AND PRACTICES FOR STORING, RETRIEVING, ACCESSING, RETAINING, AND DISPOSING OF RECORDS IN THE SYSTEM:

STORAGE:

Automated database, computer storage media, and paper.

RETRIEVABILITY:

1. Correspondence records are retrieved by subject category, by the individual's name, or by the name of the official inquiring on his or her behalf.

2. FOIA and Privacy Act disclosure records are retrieved by case number, name of the requester, or the name of the attorney or agent acting on their behalf.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Correspondence records are retained 4 years. FOIA and Privacy Act-related records are cut off at the end of each fiscal or calendar year, respectively, and retained 6 years thereafter. Records existing on paper are destroyed by burning, pulping, or shredding. Records existing on computer storage media are destroyed according to the applicable USPS media sanitization practice.

SYSTEM MANAGER(S) AND ADDRESS:

For Postmaster General correspondence: Office of the Postmaster General, United States Postal Service, 475 L'Enfant Plaza, SW., Washington, DC 20260.

For other correspondence in this system: Senior Vice President, Government Relations, United States Postal Service, 475 L'Enfant Plaza, SW., Washington, DC 20260.

For FOIA and Privacy Act requests: Vice President and Consumer Advocate, 475 L'Enfant Plaza, SW., Washington DC 20260.

NOTIFICATION PROCEDURE:

Individuals wanting to know if information about them is maintained in this system of records must address inquiries to the system manager. Inquiries about Office of the Postmaster General correspondence must include the full name of the originator, date, and subject of correspondence. Inquiries about other kinds of correspondence must contain the full name of the originator, the name of the government official to whom written, if applicable, and the date of the correspondence. Inquiries about FOIA and Privacy Act disclosure accounting records must contain the individual's name, or that of their agent, and the date of the request.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Individuals who submit correspondence, FOIA, or Privacy Act requests; their counsel or other representative; USPS officials who prepare responses; and other systems of records.

SYSTEMS EXEMPTED FROM CERTAIN PROVISIONS OF THE ACT:

Records in this system related to FOIA and Privacy Act inquiries that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 500.300

SYSTEM NAME:

Emergency Management Records.

SYSTEM LOCATION:

Headquarters and all field postal facilities.

CATEGORIES OF INDIVIDUALS COVERED BY THE SYSTEM:

1. USPS employees and other individuals having emergency management responsibilities officially designated by the Postal Service to mitigate, prepare for, respond to, or recover from any natural disaster or manmade hazard.

2. Individuals who are evacuees from postal facilities or who are unaccounted for in the event of a natural disaster or manmade hazard affecting a postal facility.

CATEGORIES OF RECORDS IN THE SYSTEM:

1. Emergency management information: Records related to USPS employees and contractors having officially designated emergency management responsibilities, including: name; Social Security Number or Employee Identification Number; date of birth; postal or contract assignment information; home, work, and emergency contact information; duty location, work schedule; and assigned emergency management devices.

2. Medical fitness and surveillance information: Records related to medical tests of designated emergency management personnel, including determinations of fitness to wear protective equipment and surveillance for exposure to hazards.

3. Emergency management training information: Records related to specialized training in emergency management of natural disasters and manmade hazards completed by emergency management personnel.

4. Evacuee information: Records of individuals who are evacuees from postal facilities under emergency circumstances related to a natural disaster or manmade hazard and records of unaccounted for individuals, such as name; postal assignment information (if USPS employee), home, work, and emergency contact information; home and work address; location in facility and activities prior to evacuation; route of exit from facility; rallying point; and emergency medical treatment administered to evacuees.

AUTHORITY FOR MAINTENANCE OF THE SYSTEM:

39 U.S.C. 401 and 410.

PURPOSE(S):

1. To permit collaboration among officially designated individuals who are responsible for mitigation of, preparation for, response to, and recovery from any natural disaster or manmade hazard affecting postal facilities.

2. To satisfy federal requirements for the training, fitness testing, and medical surveillance of officially designated emergency management personnel in response to a natural disaster or manmade hazard at a postal facility.

3. To test for the exposure to hazards by officially designated emergency management personnel.

4. To account for the whereabouts of individuals in response to a natural disaster or manmade hazard at a postal facility.

5. To assess the likelihood of an evacuee's exposure to a hazard and to contact the evacuee with important health-related information.

ROUTINE USES OF RECORDS MAINTAINED IN THE SYSTEM, INCLUDING CATEGORIES OF USERS AND THE PURPOSES OF SUCH USES:

Standard routine uses 1 through 9 apply. In addition: a. Medical records may be disclosed to an individual's private treating physician, to medical personnel retained by USPS, and to public health agencies to provide medical examinations or treatment to individuals covered by this system of records.

POLICIES AND PRACTICES FOR STORING, RETRIEVING, ACCESSING, RETAINING, AND DISPOSING OF RECORDS IN THE SYSTEM:

STORAGE:

Automated database, computer storage media, and paper.

RETRIEVABILITY:

By name, Social Security Number, Employee Identification Number, and postal facility name.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Emergency management information and emergency management training information is retained 5 years beyond the end of the period for which the individual is assigned emergency management responsibilities.

2. Medical fitness and medical surveillance information is retained 30 years.

3. Evacuee information is retained 5 years beyond the date of collection.

Records existing on paper are destroyed by burning, pulping, or shredding. Records existing on computer storage media are destroyed according to the applicable USPS media sanitization practice.

SYSTEM MANAGER(S) AND ADDRESS:

Vice President, Emergency Preparedness, United States Postal Service, 475 L'Enfant Plaza, SW., Washington, DC 20260.

Vice President, Employee Resources Management, United States Postal Service, 475 L'Enfant Plaza, SW., Washington, DC 20260.

NOTIFICATION PROCEDURE:

Current and former employees and contractors wanting to know if information about them is maintained in this system of records must address inquiries to the facility head where currently or last employed. Headquarters employees or contractors must submit inquiries to the Vice President, Emergency Preparedness. Requests must include full name, Social Security Number or Employee Identification Number, and employment or contract dates. Individuals from whom evacuee information may have been collected must address inquiries to head of the facility from which they were evacuated.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Employees; contractors; medical staff of the Postal Service, designated contractors, federal public health agencies, emergency response providers, and first responders; and individuals evacuated from a postal facility in the event of a natural disaster or manmade hazard.

SYSTEMS EXEMPTED FROM CERTAIN PROVISIONS OF THE ACT:

Pursuant to 5 U.S.C. 552a(j) and (k), USPS has established regulations at 39 CFR 266.9 that exempt records in this system depending on their purpose.

USPS 600.000

SYSTEM NAME:

Legal Records Related to Mail.

SYSTEM LOCATION:

Law Department, USPS Headquarters and field offices; Prohibitory Order Processing Center (POPC).

CATEGORIES OF INDIVIDUALS COVERED BY THE SYSTEM:

1. Complainants, respondents, and opposing parties in cases of false representations, lotteries, or nonmailable matter; prohibitory orders; mail withheld from delivery; and denial or termination of Post Office box or caller service.

2. USPS attorneys, attorneys representing parties, subjects of investigations, and postal inspectors involved in such cases.

3. Addressees who request orders prohibiting further mailings to them by mailers of pandering advertisements, and the mailers against whom such orders are issued.

CATEGORIES OF RECORDS IN THE SYSTEM:

1. False representation, mailability, and lotteries information: Records related to administrative proceedings and litigation involving false representation, mailability, and lotteries, including names of involved individuals.

2. Prohibitory order information: Applications for prohibitory orders, issued orders, applications for order enforcement, complaints issued to alleged violators, and notices of court action, including names of involved individuals.

3. Withholding of mail information: Records related to the withholding of mail from delivery, including names of involved individuals.

4. Denial or termination of Post Office box or caller service information: Records related to the denial or termination of a Post Office box or caller service, including names of involved individuals.

AUTHORITY FOR MAINTENANCE OF THE SYSTEM:

39 U.S.C. 204, 401, 404, and 3001 et seq.; 18 U.S.C. 1301, 1302, 1341, and 1342.

PURPOSE(S):

1. To investigate and enforce USPS statutes about false representations, lotteries, and mailability.

2. To process applications for orders prohibiting mailers of pandering advertisements from making further mailings to the applicants, to determine whether violations of such orders have occurred, and to prevent them.

3. To enable representation of USPS in administrative proceedings when customers petition for review of cases in which USPS has withheld mail from delivery or refused or terminated Post Office box or caller service.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By individual name, USPS docket number, or prohibitory order number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Records about false representations, lotteries, or nonmailable matter through the mails are retained 20 years.

2. Records about prohibitory orders against pandering advertisers are retained 5 years following issuance of order or last application for enforcement.

3. Records about an appeal of withholding of mail are retained 1 year after final disposition of the case.

4. Records about refusal to provide, or involuntary termination of, Post Office box or caller service are retained 1 year after final disposition of the case.

Records existing on paper are destroyed by burning, pulping, or shredding. Records existing on computer storage media are destroyed according to the applicable USPS media sanitization practice.

SYSTEM MANAGER(S) AND ADDRESS:

Senior Vice President, General Counsel, United States Postal Service, 475 L'Enfant Plaza, SW., Washington, DC 20260.

NOTIFICATION PROCEDURE:

Individuals wanting to know if information about them is maintained in this system of records must address inquiries to the system manager, and provide the following information: the full name of the subject individual; and, if applicable, the names of respondents, appellants, plaintiffs, attorneys or agents; and dates of appeals, filings, or proceedings.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subject individuals; their counsel or other representative; postal inspectors; Prohibitory Order Processing Center personnel; members of the Judicial Officer Department; attorneys for USPS; attorneys for mailers; witnesses; and postmasters.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 600.100

SYSTEM NAME:

General Legal Records.

SYSTEM LOCATION:

Law Department, USPS Headquarters and field offices; area and district facilities; Integrated Business Solutions Services Centers; Tort Claims Center; and Post Offices.

CATEGORIES OF INDIVIDUALS COVERED BY THE SYSTEM:

1. Current or former USPS employees who are parties to National Labor Relations Board (NLRB) cases, or on whose behalf NLRB charges are filed by a collective bargaining representative, and other individuals involved in labor or employment litigation.

2. Individuals who claim to be involved in accidents related to USPS operations and who seek money damages under the Federal Tort Claims Act.

3. Individuals investigated for possible infringement of USPS intellectual property rights, including inventors seeking patents for devices.

4. Individuals involved in other formal administrative proceedings or litigation in which USPS is a party or has an interest in which information or testimony is sought.

CATEGORIES OF RECORDS IN THE SYSTEM:

Records related to proceedings, including individuals' names, Social Security Numbers, postal assignment information, work contact information, finance number(s), duty location, pay location, assigned case or docket numbers, and other details related to the nature of the litigants and litigation subject matter.

AUTHORITY FOR MAINTENANCE OF THE SYSTEM:

39 U.S.C. 401, 409, 1206, and 1208.

PURPOSE(S):

1. To provide legal advice and representation in NLRB cases, labor or employment litigation, and miscellaneous civil actions and litigation.

2. To consider, settle, or defend against tort claims made under the Federal Tort Claims Act; to support program management by accident prevention and safety officers; and to provide pertinent information regarding safety, accidents, and claims to equipment providers and insurers.

3. To protect USPS intellectual property and patents.

ROUTINE USES OF RECORDS MAINTAINED IN THE SYSTEM, INCLUDING CATEGORIES OF USERS AND THE PURPOSES OF SUCH USES:

Standard routine uses 1 through 9 apply. In addition:

a. Tort claims records may be disclosed to members of the American Insurance Association Index System; to insurance companies that have issued policies under which the United States is or may be an (additional) insured; to equipment manufacturers, suppliers, and their insurers for claims considerations and possible improvement of equipment and supplies; and in response to a subpoena or other appropriate court order.

b. A record may be transferred and information from it disclosed to the Patent and Trademark Office or the Library of Congress when relevant in any proceeding involving the registration of Postal Service trademarks or issuance of patents.

POLICIES AND PRACTICES FOR STORING, RETRIEVING, ACCESSING, RETAINING, AND DISPOSING OF RECORDS IN THE SYSTEM:

STORAGE:

Automated database, computer storage media, and paper.

RETRIEVABILITY:

By name of subject individual, litigant, claimant, charging party, or individual on whose behalf a charge has been filed; case number, docket number, or topic title.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Labor litigation records are retained 5 years.

2. Tort claim files are retained 7 years after final adjudication or other closure. Tort litigation files are retained 5 years after closure.

3. Records of investigations of possible infringement of USPS intellectual property rights are retained 25 years after closure of the case.

4. Records of miscellaneous civil actions and administrative proceedings are retained 10 years.

Records existing on paper are destroyed by burning, pulping, or shredding. Records existing on computer storage media are destroyed according to the applicable USPS media sanitization practice.

SYSTEM MANAGER(S) AND ADDRESS:

Senior Vice President, General Counsel, United States Postal Service, 475 L'Enfant Plaza, SW., Washington, DC 20260.

NOTIFICATION PROCEDURE:

Individuals wanting to know if information about them is maintained in this system of records must address inquiries to the system manager. Inquiries must include full name of litigant, charging party, or individual on whose behalf a charge has been filed, case number or docket number, if known, and the approximate date the action was instituted.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subject individuals; their counsel or other representative; external authorities such as the NLRB, Equal Employment Opportunity Commission, or Merit System Protection Board; customers; police; postal inspectors; witnesses; American Insurance Association Index reports; and other systems of records.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 600.200

SYSTEM NAME:

Privacy Act and FOIA Appeal and Litigation Records.

SYSTEM LOCATION:

Law Department, USPS Headquarters.

CATEGORIES OF INDIVIDUALS COVERED BY THE SYSTEM:

Individuals who submit administrative appeals or bring suit against USPS under the provisions of the Privacy Act of 1974 and/or FOIA.

CATEGORIES OF RECORDS IN THE SYSTEM:

Names, Social Security Numbers, dates, case numbers, and other information related to individuals and the subject matter of the appeal and/or litigation.

AUTHORITY FOR MAINTENANCE OF THE SYSTEM:

39 U.S.C. 401, 409, 410, and 412.

PURPOSE(S):

To process appeals, assist in litigation, and comply with reporting requirements related to the Privacy Act and FOIA.

ROUTINE USES OF RECORDS MAINTAINED IN THE SYSTEM, INCLUDING CATEGORIES OF USERS AND THE PURPOSES OF SUCH USES:

Standard routine uses 1 through 9 apply. In addition:

a. Records may be provided to a federal agency, when that agency may maintain records relevant to a Privacy Act or FOIA request, for that agency's disclosure determination, or to obtain its assistance on a USPS disclosure determination.

POLICIES AND PRACTICES FOR STORING, RETRIEVING, ACCESSING, RETAINING, AND DISPOSING OF RECORDS IN THE SYSTEM:

STORAGE:

Automated database, computer storage media, and paper.

RETRIEVABILITY:

By case number, name of requester, or name of their attorney or agent.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 10 years. Records existing on paper are destroyed by burning, pulping, or shredding. Records existing on computer storage media are destroyed according to the applicable USPS media sanitization practice.

SYSTEM MANAGER(S) AND ADDRESS:

Senior Vice President, General Counsel, United States Postal Service, 475 L'Enfant Plaza SW, Washington, DC 20260.

NOTIFICATION PROCEDURE:

Individuals wanting to know if information about them is maintained in this system of records must address inquiries to the system manager, and provide the following information: the name of the individual or agent who submitted the appeal, and the year in which the appeal was made, or, if applicable, the name of the plaintiff in the civil action and the year in which the civil action was filed.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subject individuals; their counsel or other representative; USPS officials; other agencies referring requests to USPS; and other systems of records.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 600.300

SYSTEM NAME:

Public and Confidential Financial Disclosure Reports.

SYSTEM LOCATION:

Law Department, USPS Headquarters and field law offices; other Headquarters offices.

CATEGORIES OF INDIVIDUALS COVERED BY THE SYSTEM:

Employees required to file public or confidential financial disclosure reports, including the postmaster general, deputy postmaster general, USPS ethical conduct officer, administrative law judges, the Governors of the Postal Service, and other USPS employees determined by regulation.

CATEGORIES OF RECORDS IN THE SYSTEM:

1. Public Financial Disclosure Report: Standard Form (SF) 278 and supplemental statements including the individual's name, title, work location, employment status, personal financial records, and reports related thereto.

2. Executive Branch Personnel Confidential Financial Disclosure Report: Office of Government Ethics (OGE) Form 450 and supplemental statements including the individual's name, title, work location, employment status, personal financial records, and reports related thereto.

AUTHORITY FOR MAINTENANCE OF THE SYSTEM:

39 U.S.C. 401, 410; and 5 U.S.C. Appendix 4.

PURPOSE(S):

To meet the statutory requirements of the Ethics in Government Act with respect to the filing of public and confidential financial disclosure reports by covered individuals.

ROUTINE USES OF RECORDS MAINTAINED IN THE SYSTEM, INCLUDING CATEGORIES OF USERS AND THE PURPOSES OF SUCH USES:

Standard routine uses 1 through 9 apply. In addition: a. Records may be disclosed to any source when necessary to obtain information relevant to a conflict-of-interest investigation or determination.

POLICIES AND PRACTICES FOR STORING, RETRIEVING, ACCESSING, RETAINING, AND DISPOSING OF RECORDS IN THE SYSTEM:

STORAGE:

Automated database, computer storage media, and paper.

RETRIEVABILITY:

By individual's name.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 6 years. Records existing on paper are destroyed by burning, pulping, or shredding. Records existing on computer storage media are destroyed according to the applicable USPS media sanitization practice.

SYSTEM MANAGER(S) AND ADDRESS:

Senior Vice President, General Counsel, United States Postal Service, 475 L'Enfant Plaza SW, Washington, DC 20260.

NOTIFICATION PROCEDURE:

Individuals wanting to know if information about them is maintained in this system of records must address inquiries as follows:

For field OGE 450 filers, to the Managing Counsel of the Area Law Office serving the employee's work location.

For Headquarters OGE 450 filers, to their organization's ethics representative.

For field and Headquarters SF 278 filers, to the system manager.

RECORD ACCESS PROCEDURES:

Requests for access must be made in accordance with the Notification Procedure above and USPS Privacy Act regulations regarding access to records and verification of identity under 39 CFR 266.6. Requests for SF 278 reports must be submitted using OGE Form 201.

CONTESTING RECORD PROCEDURES:

See Notification and Record Access Procedures above.

RECORD SOURCE CATEGORIES:

Subject individual; their counsel or representative; ethics officials; individuals alleging conflicts of interest; and persons contacted during any investigation of such allegations.

USPS 600.400

SYSTEM NAME:

Administrative Litigation Records.

SYSTEM LOCATION:

Law Department, USPS Headquarters; area and district facilities; and USPS facilities.

CATEGORIES OF INDIVIDUALS COVERED BY THE SYSTEM:

1. Current and former USPS employees involved in MSPB appeals.

2. USPS employees and applicants for employment involved in EEO litigation.

CATEGORIES OF RECORDS IN THE SYSTEM:

Records related to individuals involved in MSPB appeals or EEO litigation, including names, Social Security Numbers, Employee Identification Numbers, work locations, dates, case number, and other information related to the litigants and the subject matter of the litigation.

AUTHORITY FOR MAINTENANCE OF THE SYSTEM:

39 U.S.C. 401 and 409.

PURPOSE(S):

To provide advice and representation to USPS in MSPB appeals and EEO litigation.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By name of litigant or case number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

MSPB appeals records are retained 7 years from the date of the last administrative or judicial decision. EEO litigation records are retained 4 years from the date of the final decision. Records existing on paper are destroyed by burning, pulping, or shredding. Records existing on computer storage media are destroyed according to the applicable USPS media sanitization practice.

SYSTEM MANAGER(S) AND ADDRESS:

Vice President, Labor Relations, United States Postal Service, 475 L'Enfant Plaza, SW., Washington, DC 20260.

Senior Vice President, General Counsel, United States Postal Service, 475 L'Enfant Plaza, SW., Washington, DC 20260.

NOTIFICATION PROCEDURE:

Individuals wanting to know if information about them is maintained in this system of records must address inquiries to the system manager, and provide full name, case number, if known, and the approximate date the action was instituted.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subject employees; counsel or other representatives for parties; and other individuals involved in appeal or litigation.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

USPS 700.000

SYSTEM NAME:

Inspection Service Investigative File System.

SYSTEM LOCATIONS:

Office of the Chief Postal Inspector, USPS Headquarters; Inspection Service Human Resources Service Center, Security Investigation Service Center, and Criminal Investigation Service Center; Inspectors-in-Charge.

CATEGORIES OF INDIVIDUALS COVERED BY THE SYSTEM:

1. Subjects of investigations; complainants, informants, witnesses, and other individuals in investigations.

2. Applicants, current and former USPS employees, contractors, and other individuals providing information related to employment suitability checks.

3. Applicants for and appointees to sensitive positions in USPS, and individuals providing information related to security clearance checks on those individuals.

CATEGORIES OF RECORDS IN THE SYSTEM:

Records related to investigations, including person name(s), Social Security Number(s), case number, addresses, reports of postal inspectors and third parties; physical identifying characteristics (including fingerprints, voiceprints, handwriting samples, polygraph tests, photographs, or other biometrics); and employment and payroll information maintained by USPS.

AUTHORITY FOR MAINTENANCE OF THE SYSTEM:

39 U.S.C. 401 and 404; and 18 U.S.C. 3061.

PURPOSE(S):

To support investigations of criminal, civil, or administrative matters, including applicant, employee, and contractor background investigations.

ROUTINE USES OF RECORDS MAINTAINED IN THE SYSTEM, INCLUDING CATEGORIES OF USERS AND THE PURPOSES OF SUCH USES:

Standard routine uses 1 through 9 apply. In addition:

a. A record from this system may be disclosed to the public, news media, trade associations, or organized groups to provide information of interest to the public about the activities and the accomplishments of USPS or its employees.

b. A record relating to a person held in custody pending or during arraignment, trial, sentence, or extradition proceedings or after conviction may be disseminated to a federal, state, local, or foreign prison, probation, parole, or pardon authority or to any other agency or individual involved with the maintenance, transportation, or release of such a person.

c. A record relating to a case or matter may be disseminated to a foreign country, through the United States Department of State or directly to the representative of such country, under an international treaty, convention, or executive agreement; or to the extent necessary to assist such country in apprehending or returning a fugitive to a jurisdiction that seeks that individual's return.

POLICIES AND PRACTICES FOR STORING, RETRIEVING, ACCESSING, RETAINING, AND DISPOSING OF RECORDS IN THE SYSTEM:

STORAGE:

Automated database, computer storage media, and paper.

RETRIEVABILITY:

By name or other personal identifier, subject category, or assigned case number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained up to 15 years. Exceptions may be granted for longer retention in specific instances. Records existing on paper are destroyed by burning, pulping, or shredding. Records existing on computer storage media are destroyed according to the applicable USPS media sanitization practice.

SYSTEM MANAGER(S) AND ADDRESS:

Chief Postal Inspector, Inspection Service, United States Postal Service, 475 L'Enfant Plaza, SW., Washington, DC 20260.

NOTIFICATION PROCEDURE:

Individuals wanting to know if information about them is maintained in this system of records must address inquiries to the system manager and include full name, address, and information sufficient to ascertain the investigation and the individual's involvement.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subjects, applicants, applicant references, employees, complainants, witnesses, other systems of records, other government agencies, and external public or private sources.

SYSTEMS EXEMPTED FROM CERTAIN PROVISIONS OF THE ACT:

Pursuant to 5 U.S.C. 552a(j) and (k), USPS has established regulations at 39 CFR 266.9 that exempt records in this system depending on their purpose.

USPS 700.100

SYSTEM NAME:

Mail Cover Program Records.

SYSTEM LOCATION:

Chief Postal Inspector, USPS Headquarters; Criminal Investigation Service Center; Inspection Service field offices.

CATEGORIES OF INDIVIDUALS COVERED BY THE SYSTEM:

Individuals on whom a mail cover has been duly authorized by USPS to obtain information in the interest of (a) protecting the national security; (b) locating a fugitive; and (c) obtaining evidence of the commission or attempted commission of a crime that is punishable by imprisonment for a term exceeding 1 year.

CATEGORIES OF RECORDS IN THE SYSTEM:

Records related to names and addresses of individuals on whom a mail cover is authorized; interoffice memoranda and materials; and correspondence with other relevant agencies.

AUTHORITY FOR MAINTENANCE OF THE SYSTEM:

39 U.S.C. 401 and 404.

PURPOSE(S):

To investigate the commission of, or attempted commission of, acts constituting a crime punishable by law.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By subject individual name.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Records are retained 5 years. Records existing on paper are destroyed by burning, pulping, or shredding. Records existing on computer storage media are destroyed according to the applicable USPS media sanitization practice.

SYSTEM MANAGER(S) AND ADDRESS:

Chief Postal Inspector, Inspection Service, United States Postal Service, 475 L'Enfant Plaza, SW., Washington, DC 20260.

NOTIFICATION PROCEDURE:

Individuals wanting to know if information about them is maintained in this system of records must address inquiries to the system manager. Inquiries must include full name of subject individual, current address, and other addresses during the previous 5 years.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

The requesting authority and postal inspectors.

SYSTEMS EXEMPTED FROM CERTAIN PROVISIONS OF THE ACT:

Pursuant to 5 U.S.C. 552a(j) and (k), USPS has established regulations at 39 CFR 266.9 that exempt records in this system depending on their purpose.

USPS 700.200

SYSTEM NAME:

Vehicular Violations Records System.

SYSTEM LOCATION:

Inspection Service, USPS Headquarters; and USPS facilities where postal police officers issue vehicular violations notices.

CATEGORIES OF INDIVIDUALS COVERED BY THE SYSTEM:

Vehicle operators.

CATEGORIES OF RECORDS IN THE SYSTEM:

Vehicle operator's and postal police officers' names; operator's state permit and permit number; state vehicle license number; date, number, and cause of citation; and dates of court appearances.

AUTHORITY FOR MAINTENANCE OF THE SYSTEM:

39 U.S.C. 401.

PURPOSE(S):

To regulate traffic and parking on USPS premises.

ROUTINE USES OF RECORDS MAINTAINED IN THE SYSTEM, INCLUDING CATEGORIES OF USERS AND THE PURPOSES OF SUCH USES:

Standard routine uses 1 through 9 apply.

POLICIES AND PRACTICES FOR STORING, RETRIEVING, ACCESSING, RETAINING, AND DISPOSING OF RECORDS IN THE SYSTEM:

STORAGE:

Automated database, computer storage media, and paper.

RETRIEVABILITY:

By the subject individual name or vehicle license number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

Vehicular violations records are retained 2 years. Records existing on paper are destroyed by burning, pulping, or shredding. Records existing on computer storage media are destroyed according to the applicable USPS media sanitization practice.

SYSTEM MANAGER(S) AND ADDRESS:

Chief Postal Inspector, Inspection Service, United States Postal Service, 475 L'Enfant Plaza, SW., Washington, DC 20260.

NOTIFICATION PROCEDURE:

Individuals at USPS Headquarters wanting to know if information about them is maintained in this system of records must address inquiries to: Inspector-in-Charge for Internal Affairs, United States Postal Service, 475 L'Enfant Plaza, SW., Washington, DC 20260. Individuals at other facilities must address inquiries to the facility's Inspector-in-Charge.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Vehicle operators; postal police officers; witnesses; state motor vehicle registration bureaus; USPS personnel offices; USPS parking control officers; prosecutive and judicial officials; and other systems of records.

USPS 700.300

SYSTEM NAME:

Inspector General Investigative Records.

SYSTEM LOCATION:

Office of the Inspector General (OIG), USPS Headquarters; OIG field offices.

CATEGORIES OF INDIVIDUALS COVERED BY THE SYSTEM:

1. Present and former USPS employees and applicants for employment, contractors, subcontractors, lessees, licensees, and other persons who are named individuals in investigations conducted by OIG or who are subjects of security checks or suitability determinations.

2. Complainants and subjects of complaints collected through the operation of the OIG Hotline.

3. Other individuals, including witnesses, sources, and members of the general public, who are named individuals in connection with investigations conducted by OIG.

CATEGORIES OF RECORDS IN THE SYSTEM:

Records related to OIG investigations, including name(s), Social Security Number(s), assigned case number, addresses; reports of OIG investigators and third parties; investigative materials; physical identifying characteristics (including fingerprints, voiceprints, handwriting samples, polygraph tests, photographs, or other biometrics); and employment, payroll, financial, contractual, and property management records maintained by USPS.

AUTHORITY FOR MAINTENANCE OF THE SYSTEM:

39 U.S.C. 404; 18 U.S.C. 3061; and 5 U.S.C. Appendix 3.

PURPOSE(S):

To support the conduct of OIG investigations.

ROUTINE USES OF RECORDS MAINTAINED IN THE SYSTEM, INCLUDING CATEGORIES OF USERS AND THE PURPOSES OF SUCH USES:

Standard routine uses 1 through 9 apply. In addition:

a. A record from this system may be disclosed to the public, news media, trade associations, or organized groups to provide information of interest to the public about the activities and the accomplishments of USPS or its employees.

b. A record relating to a person held in custody pending or during arraignment, trial, sentence, or extradition proceedings or after conviction may be disseminated to a federal, state, local, or foreign prison, probation, parole, or pardon authority or to any other agency or individual involved with the maintenance, transportation, or release of such a person.

c. A record relating to a case or matter may be disseminated to a foreign country, through the United States Department of State or directly to the representative of such country, under an international treaty, convention, or executive agreement; or to the extent necessary to assist such country in apprehending or returning a fugitive to a jurisdiction that seeks that individual's return.

d. Records originating exclusively within this system of records may be disclosed to other federal offices of inspector general and/or to the President's Council on Integrity and Efficiency for purposes of conducting qualitative assessment reviews of internal safeguards and management procedures employed in investigative operations of the USPS OIG. Records originating from any other USPS systems of records, which may be duplicated in or incorporated into this system, may also be disclosed with all personally identifiable information redacted.

POLICIES AND PRACTICES FOR STORING, RETRIEVING, ACCESSING, RETAINING, AND DISPOSING OF RECORDS IN THE SYSTEM:

STORAGE:

Automated database, computer storage media, and paper.

RETRIEVABILITY:

By name or other personal identifier, subject category, or assigned case number.

SAFEGUARDS:

Paper records, computers, and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

RETENTION AND DISPOSAL:

1. Official investigative case files, evidence and custody files, and informant files are retained up to 20 years, or 5 years beyond the sentence of the subject individual, whichever is longer.

2. Information reports, investigative analysis reports, confidential fund files, and inspection reports are retained 5 years.

3. Proactive project case files and briefing reports are retained 2 years after closeout.

Records existing on paper are destroyed by burning, pulping, or shredding. Records existing on computer storage media are destroyed according to the applicable USPS media sanitization practice.

SYSTEM MANAGER(S) AND ADDRESS:

Inspector General, United States Postal Service, 1735 N Lynn Street, Arlington, VA 22209.

NOTIFICATION PROCEDURE:

Individuals wanting to know if information about them is maintained in this system of records must address inquiries to the system manager and include full name, address, and information sufficient to ascertain the investigation and the individual's involvement.

RECORD ACCESS PROCEDURES:

Requests for access must be made in accordance with the Notification Procedure above and USPS Privacy Act regulations regarding access to records and verification of identity under 39 CFR 266.6.

CONTESTING RECORD PROCEDURES:

See Notification and Record Access Procedures above.

RECORD SOURCE CATEGORIES:

Subjects, applicants, applicant references, employees, complainants, witnesses, other systems of records, other government agencies, and external public or private sources.

SYSTEMS EXEMPTED FROM CERTAIN PROVISIONS OF THE ACT:

Pursuant to 5 U.S.C. 552a(j) and (k), USPS has established regulations at 39 CFR 266.9 that exempt records in this system depending on their purpose.

USPS 800.000

SYSTEM NAME:

Address Change, Mail Forwarding, and Related Services.

SYSTEM LOCATION:

USPS National Customer Support Center (NCSC), Computerized Forwarding System (CFS) sites, Post Offices, and contractor sites.

CATEGORIES OF INDIVIDUALS COVERED BY THE SYSTEM:

Customers requesting change of address, mail forwarding or other related services either online or offline. Customers who are victims of a natural disaster who request mail forwarding services through the American Red Cross.

CATEGORIES OF RECORDS IN THE SYSTEM:

1. Customer information: Name, title, signature, customer number, old address, new address, filing date, e-mail address(es), and other contact information.

2. Verification and payment information: Credit and/or debit card number, type, and expiration date; information for identity verification; billing information.

3. Demographic information: designation as individual/family/business.

4. Customer preferences: Permanent or temporary move; mail forwarding instructions; service requests and responses.

5. Customer inquiries and comments: Description of service requests and responses.

6. Records from service providers, including for move-related services, such as name of provider; customer name, number, and contact information; information related to products purchased, billing, and customer service; and records for identity verification.

7. Optional customer information: Information a customer chooses to save to apply to future transactions, such as names, addresses, proof of identification, billing, and other information used to request a service.

8. Protective Orders.

AUTHORITY FOR MAINTENANCE OF THE SYSTEM:

39 U.S.C. 401, 403, and 404.

PURPOSE(S):

1. To provide mail forwarding and change of address services.

2. To provide address correction services.

3. To provide address information to the American Red Cross about a customer who has been relocated because of disaster.

4. To provide customers the ability to contact providers of move-related services (e.g. moving vans or supplies).

ROUTINE USES OF RECORDS IN THE SYSTEM, INCLUDING CATEGORIES OF USERS AND THE PURPOSES OF SUCH USES:

Standard routine uses 1 through 7, 10, and 11 apply. In addition:

a. Disclosure upon request. The new address of a specific business or organization that has filed a permanent change of address order may be furnished to any individual on request. (Note: The new address of an individual or family will not be furnished pursuant to this routine use, but only when authorized by one of the standard routine uses listed above or one of the specific routine uses listed below.)

b. Disclosure for Address Correction. Disclosure of any customer's new permanent address may be made to a mailer, only if the mailer is in possession of the name and old address: from the National Change of Address file if the mailer is seeking corrected addresses for a mailing list; from the Computerized Forwarding System (CFS) if a mailpiece is undeliverable as addressed; or from the Locatable Address Conversion System if an address designation has been changed or assigned. Copies of change of address orders may not be furnished.

c. Disclosure for Voter Registration. Any customer's permanent change of address may be disclosed to a duly formed election board or registration commission using permanent voter registration. Copies of change of address orders may be furnished.

d. Disclosure to Government Agency. Any customer's permanent or temporary change of address information may be disclosed to a federal, state, or local government agency upon prior written certification that the information is required for the performance of its duties. A copy of the change of address order may be furnished. Name and address information may be disclosed to government planning authorities, or firms under contract with those authorities, if an address designation has been changed or assigned.

e. Disclosure to Law Enforcement Agency. Any customer's permanent or temporary change of address information may be disclosed to a law enforcement agency, for oral requests made through the Postal Inspection Service, but only after the Postal Inspection Service has confirmed that the information is needed for a criminal investigation. A copy of the change of address order may be furnished.

f. Disclosure for Service of Process. Any customer's permanent or temporary change of address information may be disclosed to a person empowered by law to serve legal process, or the attorney for a party in whose behalf service will be made, or a party who is acting pro se, upon receipt of written information that meets prescribed certification requirements. Disclosure will be limited to the address of the specifically identified individual (not other family members or individuals whose names may also appear on the change of address order). A copy of the change of address order may not be furnished.

g. Disclosure for Jury Service. Any customer's change of address information may be disclosed to a jury commission or other court official, such as a judge or court clerk, for purpose of jury service. A copy of the change of address order may be furnished.

h. Disclosure at Customer's Request. If the customer elects, change of address information may be disclosed to government agencies or other entities, and requests for move-related services may be forwarded to the specified service provider.

All routine uses are subject to the following exception: Information concerning an individual who has filed an appropriate protective court order with the postmaster/CFS manager will not be disclosed under any routine use except pursuant to the order of a court of competent jurisdiction.

POLICIES AND PRACTICES FOR STORING, RETRIEVING, ACCESSING, RETAINING, AND DISPOSING OF RECORDS IN THE SYSTEM:

STORAGE:

Change of address orders are maintained on file at the delivery unit. They are filed alphabetically by name and date. Records generated from the source document are recorded on the Forwarding Control System file server and on tapes at CFS units. Electronic change of address records and related service records are also stored on disk and/or magnetic tape in a secured environment. Change of address records are consolidated in a National Change of Address (NCOA) file at the NCSC. Selected extracts of NCOA are provided to a limited number of firms under contract or license agreement with USPS. Records pertaining to move-related services are also transmitted to specific service providers, including government agencies and private companies under contract to USPS.

For those delivery units under Postal Automated Redirection System (PARS), images of the change of address orders are maintained electronically in the Change of Address Reporting System (COARS) database. The physical COA is filed in the CFS unit by the date processed.

RETRIEVABILITY:

Records are retrieved by the following methods:

For paper records: By name, address, date, and ZIP Code.

For electronic records: by name, address, date, ZIP Code, and customer number for electronic change of address and related service records; by name, address, and e-mail address for customer service records; by service provider name or number for service provider records.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RETENTION AND DISPOSAL:

1. National change of address records are retained 4 years from the effective date.

2. COA records are retained in the delivery unit up to 18 months. For delivery units using the PARS system, the physical change of address order is retained in the CFS unit for 30 days if it was scanned or 18 months if it was manually entered into the national database. The COARS database records are retained 2 years from the effective date.

3. Mail Forwarding records are retained for up to 3 years.

Records existing on paper are destroyed by shredding. Records existing on computer storage media are destroyed according to the applicable USPS media sanitization practice.

SYSTEM MANAGER(S) AND ADDRESS:

Senior Vice President, Intelligent Mail and Address Quality, United States Postal Service, 475 L'Enfant Plaza, SW., Washington DC 20260.

Vice President, Delivery and Retail, United States Postal Service, 475 L'Enfant Plaza, SW., Washington DC 20260.

NOTIFICATION PROCEDURE:

Customers wanting to know if information about them is maintained in this system of records should address inquiries to their local postmaster. Inquiries should contain full name, address, effective date of change order, route number (if known), and ZIP Code. Customers wanting to know if information about them is also maintained in the NCOA File should address such inquiries to: Manager, NCOA, National Customer Support Center, United States Postal Service, 6060 Primacy Parkway, Memphis, TN 38188.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers, personnel, service providers, and, for call center operations, commercially available sources of names, addresses, and telephone numbers.

USPS 800.100

SYSTEM NAME:

Address Matching for Mail Processing.

SYSTEM LOCATION:

Computer Operations Service Center; Engineering; Processing and Distribution Centers; and contractor site(s).

CATEGORIES OF INDIVIDUALS COVERED BY THE SYSTEM:

USPS customers, including individual and business customers.

CATEGORIES OF RECORDS IN THE SYSTEM:

Names and mailing addresses of individuals and businesses.

AUTHORITY FOR MAINTENANCE OF THE SYSTEM:

39 U.S.C. 401, 403, and 404.

PURPOSE(S):

To improve the speed, accuracy, and certainty of mail delivery.

ROUTINE USES OF RECORDS MAINTAINED IN THE SYSTEM, INCLUDING CATEGORIES OF USERS AND THE PURPOSES OF SUCH USES:

Standard routine uses 1 through 6 and 11 apply. In addition:

a. A mailpiece containing a barcode that is encoded with the address, but not name, of a customer derived from this system may be disclosed to a mailer if the Postal Service is unable to deliver the mailpiece, and returns it to the mailer as part of a requested return service.

POLICIES AND PRACTICES FOR STORING, RETRIEVING, ACCESSING, RETAINING, AND DISPOSING OF RECORDS IN THE SYSTEM:

STORAGE:

Automated databases, electronic and computer storage media, with names and addresses stored separately.

RETRIEVABILITY:

Retrieval is accomplished by a computer-based system, using one or more of the following elements: name, ZIP Code(s), street name, primary number, secondary number, delivery point, and/or carrier route identification.

SAFEGUARDS:

The name and address database is obtained from a commercial vendor under strict contract and security controls. The database is maintained separately from USPS databases. Name data and address data within the commercial database are also stored separate from each other. In field deployment, name and address data are stored in an encrypted fashion. The database is not be commingled with any agency records or databases, and is not to be used to update any agency record or database. No information is provided from the USPS into the commercial database or back to the vendor.

The database only operates on secure systems. Electronic transmissions of records are protected by encryption and access authorization codes. Records are kept on computers in controlled-access areas, with access limited to authorized personnel. Computers are protected by a cipher lock system, card key system, or other physical access control methods. The use of computer systems is regulated with installed security software, computer logon identifications, and operating system controls including access controls, terminal and use identifications, and file management. Contractors are subject to contract controls regarding security, as well as security compliance reviews.

RETENTION AND DISPOSAL:

The database will be maintained until 90 days after termination of the contract or program, and then destroyed. During contract performance, the database is replaced by the vendor in its entirety no less frequently than every 90 days. To destroy the replaced version, the Postal Service employs sanitization procedures that ensure the complete destruction of information as specified by its information security policies.

SYSTEM MANAGER(S) AND ADDRESS:

Senior Vice President for Operations, United States Postal Service, 475 L'Enfant Plaza, SW., Washington, DC 20260.

NOTIFICATION PROCEDURE:

Customers wanting to know if information about them is kept in this system of records must address inquiries in writing to the Manager, Image Recognition Processing, 8403 Lee Highway, Merrifield VA 22082.

RECORD ACCESS PROCEDURES:

Requests for access must be made in accordance with the Notification Procedure above and the Postal Service Privacy Act regulations regarding access to records and verification of identity under 39 CFR 266.6.

CONTESTING RECORD PROCEDURES:

See Notification Procedure and Record Access Procedures above.

RECORD SOURCE CATEGORIES:

Commercially available source of names and mailing addresses.

USPS 810.100

SYSTEM NAME:

http://www.usps.com Registration.

SYSTEM LOCATION:

Computer Operations Service Centers.

CATEGORIES OF INDIVIDUALS COVERED BY THE SYSTEM:

Customers who register via the USPS Web site at http://www.usps.com.

CATEGORIES OF RECORDS IN THE SYSTEM:

1. Customer information: Name; customer ID(s); company name; job title and role; home, business, and billing address; home and business phone and fax number; e-mail; URL; and Automated Clearing House (ACH) information.

2. Identity verification information: Question, answer, username, user ID, and password.

3. Business specific information: Business type and location, business IDs, annual revenue, number of employees, industry, nonprofit rate status, product usage information, annual and/or monthly shipping budget, payment method and information, planned use of product, and age of Web site.

4. Customer preferences: Preferences to receive USPS marketing information, preferences to receive marketing information from USPS partners, preferred means of contact, preferred e-mail format, product and/or service marketing preference.

5. Customer feedback: Method of referral to Web site.

6. Registration information: Date of registration.

AUTHORITY FOR MAINTENANCE OF THE SYSTEM:

39 U.S.C. 401, 403, and 404.

PURPOSE(S):

1. To provide online registration with single sign on services for customers.

2. To obtain accurate contact information in order to deliver requested products, services, and other material.

3. To authenticate customer logon information for http://www.usps.com.

4. To permit customer feedback in order to improve www.usps.com or USPS products and services.

5. To enhance understanding and fulfillment of customer needs.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated database, computer storage media, and paper.

RETRIEVABILITY:

By customer name, customer ID(s), phone number, or mail or e-mail address.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

For small business registration, computer storage tapes and disks are maintained in controlled-access areas or under general scrutiny of program personnel. Access is controlled by logon ID and password as authorized by the Marketing organization via secure Web site. Online data transmissions are protected by encryption.

RETENTION AND DISPOSAL:

1. ACH records are retained up to 2 years.

2. Records stored in the registration database are retained until the customer cancels the profile record, 3 years after the customer last accesses records, or until the relationship ends.

3. For small business registration, records are retained 5 years after the relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza SW., Washington, DC 20260.

NOTIFICATION PROCEDURE:

Customers wanting to know if information about them is maintained in this system of records must address inquiries in writing to the system manager. Inquiries must contain name, address, and other identifying information.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 810.200

SYSTEM NAME:

http://www.usps.com Ordering, Payment, and Fulfillment.

SYSTEM LOCATION:

Computer Operations Service Centers.

CATEGORIES OF INDIVIDUALS COVERED BY THE SYSTEM:

Customers who place orders and/or make payment for USPS products and services through http://www.usps.com.

CATEGORIES OF RECORDS IN THE SYSTEM:

1. Customer information: Name, customer ID(s), phone and/or fax number, mail address and e-mail address.

2. Payment information: Credit and/or debit card number, type, and expiration date, billing information, ACH information.

3. Shipping and transaction information: Product and/or service ID numbers, descriptions, and prices; name and address(es) of recipients; order number and delivery status; electronic address lists; electronic documents or images; job number.

4. Claims submitted for defective merchandise.

AUTHORITY FOR MAINTENANCE OF THE SYSTEM:

39 U.S.C. 401, 403, and 404.

PURPOSE(S):

1. To fulfill orders for USPS products and services.

2. To promote increased use of the mail by providing electronic document preparation and mailing services for customers.

3. To provide shipping supplies and services, including return receipts and labels.

4. To provide recurring ordering and payment services for products and services.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, customer ID(s), phone number, mail or e-mail address, or job number.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

Online data transmission is protected by encryption, dedicated lines, and authorized access codes. For shipping supplies, data is protected within a stand-alone system within a controlled-access facility.

RETENTION AND DISPOSAL:

1. Records related to mailing online and online tracking and/or Confirmation Services supporting a customer order are retained for up to 30 days from completion of fulfillment of the order, unless retained longer by request of the customer.

2. Records related to shipping services and domestic and international labels are retained 90 days.

3. Delivery Confirmation and return receipt records are retained 6 months.

4. Signature Confirmation records are retained 1 year.

5. ACH records are retained up to 2 years.

6. Other customer records are retained 3 years after the customer relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

Customers wanting to know if information about them is maintained in this system of records must address inquiries in writing to the system manager. Inquiries must contain name, address, customer ID(s), and order number, if known.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 810.300

SYSTEM NAME:

Offline Registration, Payment, and Fulfillment.

SYSTEM LOCATION:

USPS Marketing Headquarters; Integrated Business Solutions Services Centers; Philatelic Fulfillment Service Center; area and district facilities; Post Offices; and contractor sites.

CATEGORIES OF INDIVIDUALS COVERED BY THE SYSTEM:

Customers who register for USPS programs, place orders and/or make payment for USPS products and services via offline means.

CATEGORIES OF RECORDS IN THE SYSTEM:

1. Customer information: Name, customer ID(s), company name, job title, home, business, and billing address(es), phone number(s), fax number(s), e-mail, URL, verification question and answer, username, and password.

2. Payment information: Credit and/or debit card number, type, and expiration date; billing name and address; check; money order, ACH information.

3. Shipping information: Product and/or service ID number, name and address of recipient.

4. Customer preferences: Preferences to receive USPS marketing information, preferences to receive marketing information from USPS partners, preferred contact media, preferred e-mail format, product and/or service marketing preference.

5. Customer feedback: Method of referral.

6. Order processing: Inquiries on status of orders; claims submitted for defective merchandise; lists of individuals who have submitted bad checks.

AUTHORITY FOR MAINTENANCE OF THE SYSTEM:

39 U.S.C. 401, 403, and 404.

PURPOSE(S):

1. To provide offline registration services for customers.

2. To fulfill requests for USPS products, services, and other materials.

3. To authenticate customer information and permit customer feedback.

4. To operate recurring ordering and payment services for products and services.

5. To enhance understanding and fulfillment of customer needs.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper forms.

RETRIEVABILITY:

By customer name, customer ID(s), phone number, mail or e-mail address, or order number.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

Online data transmission is protected by encryption, dedicated lines, and authorized access codes. For shipping supplies, data is protected within a stand-alone system within a controlled-access facility.

RETENTION AND DISPOSAL:

1. ACH records are retained up to 2 years.

2. Other records are retained up to 3 years after the customer relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza SW, Washington, DC 20260.

NOTIFICATION PROCEDURE:

Customers wanting to know if information about them is maintained in this system of records must address inquiries in writing to the system manager. Inquiries must contain name, address, and other identifying information.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers and, for call center operations, commercially available sources of names, addresses, and telephone numbers.

USPS 820.100

SYSTEM NAME:

Mailer Services—Applications and Approvals.

SYSTEM LOCATION:

USPS Headquarters; Integrated Business Solutions Services Centers; National Customer Support Center (NCSC); district facilities; detached mailing units; and facilities that access USPS computers.

CATEGORIES OF INDIVIDUALS COVERED BY THE SYSTEM:

Customers who apply for mail management and tracking products or services.

CATEGORIES OF RECORDS IN THE SYSTEM:

1. Customer information: Applicant and key contacts name, mail and e-mail address, phone number, fax number, customer ID(s), job title and/or role, employment status, company name, location, industry, monthly shipping budget, annual revenue, payment information, ACH information.

2. Customer or product identification and authentication: User and manager customer ID(s) and/or passwords; customer signature, date, last four digits of Social Security Number (SSN); USPS site; security personnel name, signature, date, telephone number, and last four digits of SSN; USPS location information; D-U-N-S ® Number; postage meter numbers; permit numbers; POSTNET code; mailer ID(s); publication name(s) and ID(s); and name(s) of authorized users.

3. Mail practices and delivery information: Type of mailing equipment and/or containers used, mail preparation information, drop shipment sites and codes, compatibility with mailing automation equipment, presort options and tests, frequency of mailings, mail volume, primary type of mailing, destination information, use of contracted mail services, names and addresses of contractors and advertisers, publication name(s) and ID(s), and appointment times.

4. Technical information: Hardware, software, and equipment names, types, versions, and specifications; media preferences; mail site specifications.

5. Product usage and payment information: Package volumes, package weights, product ordered, quantity ordered, billing information, products used, ordered date, inventory date, and usage measure dates.

6. Customer feedback: Method of referral.

AUTHORITY FOR MAINTENANCE OF THE SYSTEM:

39 U.S.C. 401, 403, and 404.

PURPOSE(S):

1. To provide application services for mail management and tracking products and services.

2. To authenticate applicant information, assign computer logon IDs, and qualify and assist users.

3. To provide product and/or service updates, service, and support.

4. To collect accurate technical data to ensure the proper operation of electronic data transmission and software.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated database, computer storage media, and paper.

RETRIEVABILITY:

By customer name, customer ID(s), or logon ID.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. Logon records are retained 1 year after computer access.

2. ACH records are retained up to 2 years.

3. Security access records are retained 2 years after computer access privileges are cancelled.

4. Other customer records are retained 4 years after the customer relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

Customers wanting to know if information about them is maintained in this system of records must address inquiries in writing to the system manager. Inquiries should contain name, customer ID(s), if any, and/or logon ID.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 820.200

SYSTEM NAME:

Mail Management and Tracking Activity.

SYSTEM LOCATION:

USPS Headquarters; Integrated Business Solutions Services Centers; and Mail Transportation Equipment Service Centers.

CATEGORIES OF INDIVIDUALS COVERED BY THE SYSTEM:

Customers who use USPS mail management and tracking services.

CATEGORIES OF RECORDS IN THE SYSTEM:

1. Customer information: Customer or contact name, mail and e-mail address, title or role, and phone number.

2. Identification information: Customer ID(s), last four digits of Social Security Number (SSN), D-U-N-S Number; mailer and mailing ID, advertiser name/ID, username, and password.

3. Data on mailings: Paper and electronic data on mailings, including postage statement data (such as volume, class, rate, postage amount, date and time of delivery, mailpiece count), destination of mailing, delivery status, mailing problems, presort information, reply mailpiece information, container label numbers, package label, Special Services label, article number, and permit numbers.

4. Payment information: Credit and/or debit card number, type, and expiration date; ACH information.

5. Customer preference data: Hold mail begin and end date, redelivery date, delivery options, shipping and pickup preferences, drop ship codes, comments and instructions, mailing frequency, preferred delivery dates.

6. Product usage information: Special Services label and article number.

AUTHORITY FOR MAINTENANCE OF THE SYSTEM:

39 U.S.C. 401, 403, and 404.

PURPOSE(S):

1. To provide mail acceptance, induction, and scheduling services.

2. To fulfill orders for mail transportation equipment.

3. To provide customers with information about the status of mailings within the USPS network.

4. To help mailers identify performance issues regarding their mail.

5. To provide delivery units with information needed to fulfill requests for mail redelivery and hold mail service at the address and for the dates specified by the customer.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, customer ID(s), or logon ID.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. CONFIRM records are retained for up to 30 days.

2. Records related to ePubWatch, Confirmation Services and hold mail services are retained for up to 1 year.

3. Special Services and drop ship records are retained 2 years.

4. ACH records are retained up to 2 years.

5. Other records are retained 4 years after the relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

Customers wanting to know if information about them is maintained in this system of records must address inquiries in writing to the system manager. Inquiries should contain name, customer ID(s), if any, and/or logon ID.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers and, for call center operations, commercially available sources of names, addresses, and telephone numbers.

USPS 830.000

SYSTEM NAME:

Customer Service and Correspondence.

SYSTEM LOCATION:

USPS Consumer Advocate, Headquarters; Integrated Business Solutions Services Centers; the National Customer Support Center (NCSC); districts, Post Offices, contractor sites; and detached mailing units at customer sites.

CATEGORIES OF INDIVIDUALS COVERED BY THE SYSTEM:

This system contains records relating to customers who contact customer service by online and offline channels. This includes customers making inquiries via e-mail, 1-800-ASK-USPS, other toll-free contact centers, or the BSN, as well as customers with product-specific service or support issues.

CATEGORIES OF RECORDS IN THE SYSTEM:

1. Customer information: Customer and key contact name, mail and e-mail address, phone and/or fax number; customer ID(s); title, role, and employment status; company name, location, type and URL; vendor and/or contractor information.

2. Identity verification information: Last four digits of Social Security Number (SSN), username and/or password, D-U-N-S Number, mailer ID number, publisher ID number, security level and clearances, and business customer number.

3. Product and/or service use information: Product and/or service type, product numbers, technology specifications, quantity ordered, logon and product use dates and times, case number, pickup number, article number, and ticket number.

4. Payment information: Credit and/or debit card number, type, and expiration date; billing information; checks, money orders, or other payment method.

5. Customer preferences: Drop ship sites and media preference.

6. Service inquiries and correspondence: Contact history; nature of inquiry, dates and times, comments, status, resolution, and USPS personnel involved.

AUTHORITY FOR MAINTENANCE OF THE SYSTEM:

39 U.S.C. 401, 403, and 404.

PURPOSE(S):

1. To enable review and response services for customer inquiries and concerns regarding USPS and its products and services.

2. To ensure that customer accounts and needs are attended to in a timely manner.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, customer ID(s), mail or e-mail address, phone number, customer account number, case number, article number, pickup number, and last four digits of SSN, ZIP Code, or other customer identifier.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. Customer care records for usps.com products are retained 90 days.

2. Records related to 1-800-ASK-USPS, Delivery Confirmation service, Special Services, and international call centers are retained 1 year.

3. Customer complaint letters are retained 6 months and automated complaint records are retained 3 years.

4. Business Service Network records are retained 5 years.

5. Other records are retained 2 years after resolution of the inquiry.

Records existing on paper are destroyed by burning, pulping, or shredding. Records existing on computer storage media are destroyed according to the applicable USPS media sanitization practice.

SYSTEM MANAGER(S) AND ADDRESS:

Vice President and Consumer Advocate, 475 L'Enfant Plaza, SW., Washington DC 20260.

NOTIFICATION PROCEDURE:

Customers wanting to know if information about them is maintained in this system of records must address inquiries to the system manager in writing. Inquiries should include name, address, and other identifying information.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers and, for call center operations, commercially available sources of names, addresses, and telephone numbers.

USPS 840.000

SYSTEM NAME:

Customer Mailing and Delivery Instructions.

SYSTEM LOCATION:

USPS Headquarters, Prohibitory Order Processing Center, districts, Integrated Business Solutions Services Centers, and Post Offices.

CATEGORIES OF INDIVIDUALS COVERED BY THE SYSTEM:

1. Customers requesting delivery of mail through an agent and the agent to whom the mail is to be delivered.

2. Customers who are visually or physically disabled and unable to use or read conventionally printed materials and who are receiving postage-free matter in their delivery areas.

3. Customers whose mailboxes do not comply with USPS standards and regulations.

4. Customers who elect to have their names and addresses, or the name and address of their children under 19 years of age or a deceased spouse, placed on the list of individuals who do not want mailed to them sexually oriented advertisements (SOAs) or pandering advertisements.

5. Rural route customers.

CATEGORIES OF RECORDS IN THE SYSTEM:

1. Customer information: Name, address, phone number, customer ID(s), signature, application number, names and birth dates of children under 19; reports of mailbox irregularities and date; postmaster signature.

2. Verification information: Photocopies of IDs, customer name, address, signature, statement from competent authority as being visually or physically impaired from being able to use or read conventional reading matter.

3. Agency information: Agent name, address, signature, and phone number.

AUTHORITY FOR MAINTENANCE OF THE SYSTEM:

39 U.S.C. 401, 403, 404, 3008, 3010, and 3403.

PURPOSE(S):

1. To provide for efficient and secure mail delivery services.

2. To permit authorized delivery of mail to the addressee's agent.

3. To enable the efficient processing of mail for visually or physically disabled customers.

4. To protect customers from mail fraud and identity theft.

5. To maintain a list of addressees that do not want SOA material mailed to them, available for mailers to comply with statutory requirements; and to maintain records as necessary to provide protections requested by an addressee against individual mailers under the Pandering Advertisement statutes.

6. To assist rural carrier leave replacements who might be unfamiliar with assigned route and box numbers of rural route customers.

ROUTINE USES OF RECORDS IN THE SYSTEM, INCLUDING CATEGORIES OF USERS AND THE PURPOSES OF SUCH USES:

Standard routine uses 1 through 7, 10, and 11 apply. In addition:

a. Information may be disclosed for the purpose of identifying an address as an address of an agent to whom mail is delivered on behalf of other persons. This routine use does not authorize the disclosure of the identities of persons on behalf of whom agents receive mail.

All routine uses are subject to the following exception: Information concerning an individual who has filed an appropriate protective court order with the postmaster will not be disclosed under any of the general routine uses except pursuant to the order of a court of competent jurisdiction.

POLICIES AND PRACTICES FOR STORING, RETRIEVING, ACCESSING, RETAINING, AND DISPOSING OF RECORDS IN THE SYSTEM:

STORAGE:

Automated databases, computer storage media, and paper.

RETRIEVABILITY:

By customer name, address, and application number, or by customer ID(s).

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RETENTION AND DISPOSAL:

1. Records related to customer requests not to have mailed to them SOAs or pandering advertisements are retained up to 5 years after request.

2. Other records are retained 1 year from the date the customer relocates, cancels an order, corrects a cited mailbox irregularity, or terminates the special instruction.

Records existing on paper are destroyed by burning, pulping, or shredding. Records existing on computer storage media are destroyed according to the applicable USPS media sanitization practice.

SYSTEM MANAGER(S) AND ADDRESS:

For SOA and pandering advertisement prohibitory orders: Vice President, Pricing and Classification, United States Postal Service, 475 L'Enfant Plaza, SW., Washington, DC 20260.

For other delivery records: Vice President, Delivery and Retail, 475 L'Enfant Plaza, SW., Washington DC 20260.

NOTIFICATION PROCEDURE:

Customers wanting to know if information about them is maintained in this system pertaining to mail delivery by agents, noncompliant mailboxes, with regard to free matter for the visually disabled, or pertaining to rural routes must address inquiries to their local postmasters. Customers should include name, address, and other identifying information.

Customers wanting to know if information about them is maintained in this system pertaining to requests not to have mailed to them SOAs and pandering advertisements must address inquiries to the system manager. Customers should include name, address, application number, and the date of filing, if applicable.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers; cosigners of the request for delivery of mail through an agent; medical personnel or other competent authorities; and USPS personnel.

USPS 850.000

SYSTEM NAME:

Auction Files.

SYSTEM LOCATION:

USPS Mail Recovery Centers.

CATEGORIES OF INDIVIDUALS COVERED BY THE SYSTEM:

Customers who participate in or request information about USPS auctions.

CATEGORIES OF RECORDS IN THE SYSTEM:

1. Customer information: Name, customer ID(s), mail and e-mail address, and phone number.

2. Payment information: Credit and/or debit card number, type, and expiration date; check; or money order.

3. Customer feedback: Means of referral.

AUTHORITY FOR MAINTENANCE OF THE SYSTEM:

39 U.S.C. 401, 403, and 404.

PURPOSE(S):

1. To maintain a list of names and addresses of customers participating in or requesting information about auctions.

2. To accurately process delivery and payment.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, customer ID(s), or other identifier.

SAFEGUARDS:

Paper records, computers, and computer storage media are located in controlled-access areas under supervision of program personnel. Access to these areas is limited to authorized personnel, who must be identified with a badge.

Access to records is limited to individuals whose official duties require such access.

Computers are protected by mechanical locks, card key systems, or other physical access control methods. The use of computer systems is regulated with installed security software, computer logon identifications, and operating system controls including access controls, terminal and transaction logging, and file management software.

RETENTION AND DISPOSAL:

Records are retained up to 1 year. Records existing on paper are destroyed by burning, pulping, or shredding. Records existing on computer storage media are destroyed according to the applicable USPS media sanitization practice.

SYSTEM MANAGER(S) AND ADDRESS:

Vice President and Consumer Advocate, 475 L'Enfant Plaza, SW., Washington DC 20260.

NOTIFICATION PROCEDURE:

Customers wanting to know if information about them is maintained in this system must address inquiries to the system manager. Inquiries must contain full name, address, and other identifying information.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 860.000

SYSTEM NAME:

Financial Transactions.

SYSTEM LOCATION:

USPS Headquarters; Integrated Business Solutions Services Centers; Accounting Service Centers; anti-money laundering support group; and contractor sites.

CATEGORIES OF INDIVIDUALS COVERED BY THE SYSTEM:

1. Customers who use online payment or funds transfer services.

2. Customers who file claims or make inquiries related to online payment services, funds transfers, money orders, and stored-value cards.

3. Customers who purchase funds transfers or stored-value cards in an amount of $1000 or more per day, or money orders in an amount of $3000 or more per day, or who purchase or redeem any such services in a manner requiring collection of information as potential suspicious activities under anti-money laundering requirements. Recipients of funds transfers and the beneficiaries of funds from money orders totaling $10,000 in one day.

CATEGORIES OF RECORDS IN THE SYSTEM:

1. Customer information: Name, customer ID(s), mail and e-mail address, telephone number, occupation, type of business, and customer history.

2. Identity verification information: Date of birth, username and/or ID, password, Social Security Number (SSN) or tax ID number, and driver's license number (or other type of ID if driver's license is not available, such as Alien Registration Number, Passport Number, Military ID, Tax ID Number). (Note: For online payment services, SSNs are collected, but not retained, in order to verify ID.)

3. Billers registered for online payment services: Biller name and contact information, bill detail, and bill summaries.

4. Transaction information: Name, address, and phone number of purchaser, payee, and biller; amount, date, and location; credit and/or debit card number, type, and expiration; sales, refunds, and fees; type of service selected and status; sender and recipient bank account and routing number; bill detail and summaries; transaction number, serial number, and/or reference number or other identifying number, pay out agent name and address; type of payment, currency, and exchange rate; Post Office information such as location, phone number, and terminal; employee ID numbers, license number and state, and employee comments.

5. Information to determine credit-worthiness: Period at current residence, previous address, and period of time with same phone number.

6. Information related to claims and inquiries: Name, address, phone number, signature, SSN, location where product was purchased, date of issue, amount, serial number, and claim number.

AUTHORITY FOR MAINTENANCE OF THE SYSTEM:

39 U.S.C. 401, 403, and 404; 31 U.S.C. 5318, 5325, 5331, and 7701.

PURPOSE(S):

1. To provide financial products and services.

2. To respond to inquiries and claims related to financial products and services.

3. To fulfill requirements of anti-money laundering statutes and regulations.

ROUTINE USES OF RECORDS IN THE SYSTEM, INCLUDING CATEGORIES OF USERS AND THE PURPOSES OF SUCH USES:

Standard routine uses 1 through 7, 10, and 11 apply. Legally required disclosures to agencies for law enforcement purposes include disclosures of information relating to money orders, funds transfers, and stored-value cards as required by anti-money laundering statutes and regulations.

POLICIES AND PRACTICES FOR STORING, RETRIEVING, ACCESSING, RETAINING, AND DISPOSING OF RECORDS IN THE SYSTEM:

STORAGE:

Automated database, computer storage media, microfiche, and paper.

RETRIEVABILITY:

For online payment and funds transfer services, information is retrieved by customer name, customer ID(s), transaction number, or address.

Claim information is retrieved by name of purchaser or payee, claim number, serial number, transaction number, check number, customer ID(s), or ZIP Code.

Information related to anti-money laundering is retrieved by customer name; SSN; alien registration, passport, or driver's license number; serial number; transaction number; ZIP Code; transaction date; data entry operator number; and employee comments.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. Summary records, including bill due date, bill amount, biller information, biller representation of account number, and the various status indicators, are retained 2 years from the date of processing.

2. For funds transfers, transaction records are retained 3 years.

3. Records related to claims are retained up to 3 years from date of final action on the claim.

4. Forms related to fulfillment of anti-money laundering requirements are retained 5 years from the end of the calendar quarter in which they were created.

5. Related automated records are retained the same 5-year period and purged from the system quarterly after the date of creation.

6. Enrollment records related to online payment services are retained 7 years after the subscriber's account ceases to be active or the service is cancelled.

7. Account banking records, including payment history, Demand Deposit Account (DDA) number, and routing number, are retained 7 years from the date of processing.

Records existing on paper are destroyed by burning, pulping, or shredding. Records existing on computer storage media are destroyed according to the applicable USPS media sanitization practice.

SYSTEM MANAGER(S) AND ADDRESS:

Chief Financial Officer and Executive Vice President, 475 L'Enfant Plaza, SW., Washington DC 20260.

Senior Vice President, Chief Marketing Officer, United States Postal Service, 475 L'Enfant Plaza, SW., Washington, DC 20260.

NOTIFICATION PROCEDURE:

For online payment services, funds transfers, and stored-value cards, individuals wanting to know if information about them is maintained in this system must address inquiries in writing to the Chief Marketing Officer. Inquiries must contain name, address, and other identifying information, as well as the transaction number for funds transfers.

For money order claims and anti-money laundering documentation, inquiries should be addressed to the Chief Financial Officer. Inquiries must include name, address, or other identifying information of the purchaser (such as driver's license, Alien Registration Number, Passport Number, etc), and serial or transaction number. Information collected for anti-money laundering purposes will only be provided in accordance with Federal anti-money laundering laws and regulations.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers, recipients, financial institutions, and USPS employees.

SYSTEMS EXEMPTED FROM CERTAIN PROVISIONS OF THE ACT:

USPS has established regulations at 39 CFR 266.9 that exempt information contained in this system of records from various provisions of the Privacy Act in order to conform to the prohibition in the Bank Secrecy Act, 31 U.S.C. 5318(g)(2), against notification of the individual that a suspicious transaction has been reported.

USPS 870.100

SYSTEM NAME:

Trust Funds and Transaction Records.

SYSTEM LOCATION:

USPS Headquarters Marketing; Integrated Business Solutions Services Centers; district offices; Post Offices; and detached mailing units.

CATEGORIES OF INDIVIDUALS COVERED BY THE SYSTEM:

Customers who are users of trust fund payment accounts.

CATEGORIES OF RECORDS IN THE SYSTEM:

1. Customer information: Customer and key contact name, mail and e-mail address, phone and fax number(s); D-U-N-S Number; customer ID(s), taxpayer ID number.

2. Transactional information: Permit authorizations and numbers, postage paid, postage class transaction dates, volume, weight, and revenue of mailing, postage indicium created, estimated annual postage, percent by mailing type, type of user, mailing data files including USPS location where the mail was entered.

3. Information necessary for processing electronic payments: Bank name, contact name, bank address and telephone number, bank account number, bank transit ABA number, voided check, credit and/or debit card number, type, and expiration date; ACH information.

AUTHORITY FOR MAINTENANCE OF THE SYSTEM:

39 U.S.C. 401, 403, and 404.

PURPOSE(S):

1. To establish and maintain trust fund accounts and process payments.

2. To ensure revenue protection.

3. To provide information and updates to users of these accounts.

4. To enhance understanding and fulfillment of customer needs.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated database, computer storage media, and paper.

RETRIEVABILITY:

By customer name or customer ID(s), account number, and/or address.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. ACH records are retained up to 2 years.

2. Other records in this system are retained up to 4 years after the relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

To access Permit records, customers must make a written request to their local postmaster. Correspondence must include name, address, account number, company name, mailing location, and a clear description of the issue.

To access all other records, customers must make a written request to the system manager. Correspondence must include name, address, account numbers, and other identifying information.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 870.200

SYSTEM NAME:

Postage Meter and PC Postage Customer Data and Transaction Records.

SYSTEM LOCATION:

USPS Headquarters Marketing, USPS facilities, Integrated Business Solutions Services Centers, and partner locations.

CATEGORIES OF INDIVIDUALS COVERED BY THE SYSTEM:

Postage evidencing system users.

CATEGORIES OF RECORDS IN THE SYSTEM:

1. Customer information: Contact name, address, and telephone number; company name; and change of address information.

2. Identification information: Customer ID(s), date of device installation, device ID number, device model number, and certificate serial number.

3. Transactional information: Post Office where mail is entered; type (credit card, ACH, check, etc.), amount, and date of postage purchases; ascending and descending register values; amount of unused postage refunded; contact telephone number; package identification code, Customized Postage image data; declared value of contents and cost of insurance for insured packages; destination five-digit ZIP Code, date, and rate category of each indicium created; and transaction documents.

4. Financial information: Credit and/or debit card number, type, expiration date, and transaction number; check and electronic fund transfer information; ACH information.

AUTHORITY FOR MAINTENANCE OF THE SYSTEM:

39 U.S.C. 401, 403, and 404.

PURPOSE(S):

1. To enable responsible administration of postage evidencing system activities.

2. To enhance understanding and fulfillment of customer needs.

ROUTINE USES OF RECORDS IN THE SYSTEM, INCLUDING CATEGORIES OF USERS AND THE PURPOSES OF SUCH USES:

Standard routine uses 1 through 7, 10, and 11 apply. In addition:

a. The name and address of an authorized user of a postage meter or PC Postage product (postage evidencing systems), printing a specified indicium will be furnished to any person provided the user is using the postage meter or PC Postage product for business purposes.

POLICIES AND PRACTICES FOR STORING, RETRIEVING, ACCESSING, RETAINING, AND DISPOSING OF RECORDS IN THE SYSTEM:

STORAGE:

Automated databases, computer storage media, and paper.

RETRIEVABILITY:

By customer name and by numeric file of postage evidencing systems ID number, or by customer ID(s).

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RETENTION AND DISPOSAL:

1. ACH records are retained up to 2 years. Records of payment are retained up to 7 years.

2. Other records in this system are retained up to 4 years after a customer ceases using a postage evidencing system.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

Customers wanting to know if information about them is maintained in this system of records must address inquires in writing to: Manager, Postage Technology Management, United States Postal Service, 1735 N Lynn St., Arlington, VA 22209.

Inquiries should include the individual's name and customer ID.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers; authorized service providers of postage evidencing systems; and USPS personnel.

USPS 880.000

SYSTEM NAME:

Post Office and Retail Services.

SYSTEM LOCATION:

USPS Headquarters, Consumer Advocate; Integrated Business Solutions Services Centers; Accounting Service Centers; and USPS facilities, including Post Offices (New Jersey, as an exception, does not store passport information in Post Offices), international claims and inquiry offices, and contractor locations.

CATEGORIES OF INDIVIDUALS COVERED BY THE SYSTEM:

1. Customers who apply for or purchase products and services at Post Offices or other retail sites. This includes products and services related to passports, Post Office boxes, caller services, and self-service equipment.

2. Senders and recipients of special mail services.

3. Authorized users of Post Office boxes and caller services.

4. Customers with inquiries or claims relating to special mail services.

CATEGORIES OF RECORDS IN THE SYSTEM:

1. Customer information: Name, customer ID(s), company name, phone number, mail and e-mail address, record of payment, passport applications and a description of passport services rendered, Post Office box and caller service numbers.

2. Identity verification and biometric information: Driver's license; two forms of ID; signature; photographic image via self-service equipment; fingerprints, date of birth, and Social Security Numbers (SSNs) as required for passports by the State Department.

3. Recipient information: Name, address, and signature.

4. Names and addresses of persons authorized to access a Post Office box or caller service.

5. Claim and inquiry information: Mailer and addressee name, mail and e-mail address, and phone number; claimant SSN and signature; claim or inquiry description, number, and status.

6. Payment information: Credit and/or debit card number, type, and expiration date.

7. Product information: Article number.

AUTHORITY FOR MAINTENANCE OF THE SYSTEM:

39 U.S.C. 401, 403, 404, and 411; 22 U.S.C. 214; 31 U.S.C. 7701.

PURPOSE(S):

1. To enable customers to apply for and purchase nonfinancial products and services at Post Offices and other retail locations.

2. To ensure accurate mail delivery.

3. To respond to inquiries and claims related to special mail services.

ROUTINE USES OF RECORDS IN THE SYSTEM, INCLUDING CATEGORIES OF USERS AND THE PURPOSES OF SUCH USES:

Standard routine uses 1 through 7, 10, and 11 apply. In addition:

a. Disclosure of boxholder applicant name/address and the names of other persons listed as receiving mail on PS Form 1093, Application for Post Office Box or Caller Service, may be made to a federal, state, or local government agency upon prior written certification that the information is required for the performance of its duties. A copy of PS Form 1093 may be furnished.

b. Disclosure of boxholder applicant name/address may be made to a person empowered to serve legal process, or the attorney for a party in whose behalf service will be made, or a party who is acting pro se, on receipt of written information that meets prescribed certification requirements. A copy of PS Form 1093 will not be furnished.

c. Disclosure of boxholder applicant name/address and the names of other persons listed as receiving mail on PS Form 1093 may be made, on prior written certification from a foreign government agency citing the relevance of the information to an indication of a violation or potential violation of law and its responsibility for investigating or prosecuting such violation, and only if the address is (a) outside the United States and its territories, and (b) within the territorial boundaries of the requesting foreign government. A copy of PS Form 1093 may be furnished.

All routine uses are subject to the following exception: Information concerning an individual who has filed an appropriate protective court order with the postmaster will not be disclosed under any routine use except pursuant to the order of a court of competent jurisdiction.

POLICIES AND PRACTICES FOR STORING, RETRIEVING, ACCESSING, RETAINING, AND DISPOSING OF RECORDS IN THE SYSTEM:

STORAGE:

Automated databases, computer storage media, and paper.

RETRIEVABILITY:

By name, customer ID(s), ZIP Code, article number, claim number, Post Office box or caller service number, check number, or debit and/or credit card number.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmissions are protected by encryption.

RETENTION AND DISPOSAL:

1. Passport applications are mailed on the day of acceptance with fees and documentation. Records related to passports are retained 4 months.

2. Records related to Special Services for domestic and International Express Mail are retained up to 1 year.

3. Domestic and international Special Services records are retained 2 years. Records relating to Post Office boxes and caller services are retained up to 2 years after the customer relationship ends.

4. Records collected via self-service equipment are retained up to 2 years.

5. Records related to credit and/or debit card transactions are retained 2 years.

6. Records related to inquiries and claims are retained up to 3 years from final action on the claim.

7. Records related to retail transactions are retained up to 5 years.

Records existing on paper are destroyed by shredding. Records existing on computer storage media are destroyed according to the applicable USPS media sanitization practice.

SYSTEM MANAGER(S) AND ADDRESS:

Senior Vice President, Chief Marketing Officer, United States Postal Service, 475 L'Enfant Plaza, SW., Washington, DC 20260.

Senior Vice President, Operations, 475 L'Enfant Plaza, SW., Washington, DC 20260.

NOTIFICATION PROCEDURE:

For records relating to Post Office boxes, caller services, self-service, and passports, inquiries made in person must be made by the subject individual at the local Post Office. Requestors must identify themselves with a driver's license or military, government, or other form of acceptable identification.

Note: For passports, inquiries are best directed to the Department of State, which maintains the original case file.

For Special Services, information can be obtained from the facility where the service was obtained, or can be accessed on www.usps.com. Inquiries should include name, date of mailing, and article number. For Special Services claims, customers can write a letter, including name, date of claim, and claim number, to the head of the facility where the claim was filed, or can call 888-601-9328.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

USPS 890.000

SYSTEM NAME:

Sales, Marketing, Events, and Publications.

SYSTEM LOCATION:

USPS Headquarters Marketing and Public Policy; Integrated Business Solutions Services Centers; National Customer Service Center; Area and District USPS facilities; Post Offices; and contractor sites.

CATEGORIES OF INDIVIDUALS COVERED BY THE SYSTEM:

Customers who interact with USPS sales personnel, respond to direct marketing messages, request publications, respond to contests and surveys, and attend USPS events.

CATEGORIES OF RECORDS IN THE SYSTEM:

1. Customer information: Customer and key contacts' names, mail and e-mail addresses, phone, fax and pager numbers; job descriptions, titles, and roles; other names and e-mails provided by customers.

2. Identifying information: Customer ID(s), D-U-N-S Numbers, USPS account numbers, meter numbers, and signatures.

3. Business specific information: Firm name, size, and years in business; number of employees; sales and revenue information; business sites and locations; URLs; company age; industrial classification numbers; use of USPS and competitors products and services; types of customers served; customer equipment and services; advertising agency and spending; names of USPS employees serving the firm; and calls made.

4. Information specific to companies that act as suppliers to USPS: Contract start and end dates, contract award number, contract value, products and/or services sold under contract.

5. Information provided by customers as part of a survey or contest.

6. Payment information: Credit and/or debit card number, type, expiration date, and check information; and ACH information.

7. Event information: Name of event; role at event; itinerary; and membership in a PCC.

8. Customer preferences: Preferences for badge name and accommodations.

AUTHORITY FOR MAINTENANCE OF THE SYSTEM:

39 U.S.C. 401, 403, 404.

PURPOSE(S):

1. To understand the needs of customers and improve USPS sales and marketing efforts.

2. To provide appropriate materials and publications to customers.

3. To conduct registration for USPS and related events.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

For sales, events, and publications, information is retrieved by customer name or customer ID(s), mail or e-mail address, and phone number.

For direct marketing, information is retrieved by Standard Industry Code (SIC) or North American Industry Classification System (NAISC) number, and company name.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmission is protected by encryption.

RETENTION AND DISPOSAL:

1. Records relating to organizations and publication mailing lists are retained until the customer ceases to participate.

2. ACH records are retained up to 2 years. Records relating to direct marketing, advertising, and promotions are retained 5 years.

3. Other records are retained 3 years after the relationship ends.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

For information pertaining to sales, inquiries should be addressed to: Office of Sales Performance Assessment, 475 L'Enfant Plaza, SW., Washington, DC 20260.

Customers wanting to know if other information about them is maintained in this system of records must address inquiries in writing to the Chief Marketing Officer, and include their name and address.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers, USPS personnel, and list providers.

USPS 900.000

SYSTEM NAME:

International Services.

SYSTEM LOCATION:

USPS Headquarters, Integrated Business Solutions Services Centers, and USPS facilities.

CATEGORIES OF INDIVIDUALS COVERED BY THE SYSTEM:

Customers shipping to or from international locations.

CATEGORIES OF RECORDS IN THE SYSTEM:

1. Customer information: Customer name, customer ID(s), and contact information.

2. Name and address of senders and addressees.

3. Information pertaining to mailings: Contents, order number, volume, destination, weight, origin, and type of mailing.

4. Customer barcode scan data.

5. Company name; contact name, title, and phone and fax number; mail and e-mail address; after-hours contact name and phone number; Tax ID number; Permit account number; and CAPS account number.

AUTHORITY FOR MAINTENANCE OF THE SYSTEM:

39 U.S.C. 401, 403, and 404.

PURPOSE(S):

1. To provide international mailings and business services.

2. To provide USPS scan data to customers for mail tracking purposes.

3. To support customized mail agreements with international customers.

4. To satisfy reporting requirements for customs purposes.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, ID number(s).

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

RETENTION AND DISPOSAL:

1. Records related to the Pre-Customs Advisory System are retained 5 years, and then erased according to the requirements of domestic and foreign Customs services.

2. Other records are retained 3 years after the relationship ends.

Records existing on paper are destroyed by burning, pulping, or shredding. Records existing on computer storage media are destroyed according to the applicable USPS media sanitization practice.

SYSTEM MANAGER(S) AND ADDRESS:

Vice President, International Business, United States Postal Service, 1735 N. Lynn Street, Suite 6026, Arlington, VA 22209.

NOTIFICATION PROCEDURE:

Customers wanting to know if other information about them is maintained in this system of records must address inquiries in writing to the system manager, and include their name and address.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers and USPS personnel.

USPS 910.000

SYSTEM NAME:

Identity and Document Verification Services.

SYSTEM LOCATION:

USPS Marketing, Headquarters; Integrated Business Solutions Services Centers; and contractor sites.

CATEGORIES OF INDIVIDUALS COVERED BY THE SYSTEM:

Customers who apply for identity and document verification services.

CATEGORIES OF RECORDS IN THE SYSTEM:

1. Customer information: Name, address, customer ID(s), telephone number, mail and e-mail address, date of birth, place of birth, company name, title, role, and employment status.

2. Names and contact information of users who are authorized to have access to data.

3. Verification and payment information: Credit and/or debit card information or other account number, government issued ID type and number, verification question and answer, and payment confirmation code. (Note: Social Security Number (SSN) and credit and/or debit card information are collected, but not stored, in order to verify ID.)

4. Biometric information including fingerprint, photograph, height, weight, and iris scans. (Note: Information may be collected, secured, and returned to customer or third parties at the direction of the customer, but not stored.)

5. Digital certificate information: Customer's public key(s), certificate serial numbers, distinguished name, effective dates of authorized certificates, certificate algorithm, date of revocation or expiration of certificate, and USPS-authorized digital signature.

6. Transaction information: Clerk signature; transaction type, date and time, location, source of transaction; product use and inquiries.

7. Electronic information related to encrypted or hashed documents.

AUTHORITY FOR MAINTENANCE OF THE SYSTEM:

39 U.S.C. 401, 403, and 404.

PURPOSE(S):

1. To provide services related to identity and document verification services.

2. To issue and manage public key certificates, user registration, email addresses, and/or electronic postmarks.

3. To provide secure mailing services.

4. To protect business and personal communications.

5. To enhance personal identity and privacy protections.

ROUTINE USES OF RECORDS IN THE SYSTEM, INCLUDING CATEGORIES OF USERS AND THE PURPOSES OF SUCH USES:

Standard routine uses 1 through 7, 10, and 11 apply.

POLICIES AND PRACTICES FOR STORING, RETRIEVING, ACCESSING, RETAINING, AND DISPOSING OF RECORDS IN THE SYSTEM:

STORAGE:

Automated databases, computer storage media, and paper.

RETRIEVABILITY:

By customer name, customer ID(s), distinguished name, certificate serial number, receipt number, and transaction date.

SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software.

Key pairs are protected against cryptanalysis by encrypting the private key and by using a shared secret algorithm to protect the encryption key, and the certificate authority key is stored in a separate, tamperproof, hardware device. Activities are audited, and archived information is protected from corruption, deletion, and modification.

For authentication services and electronic postmark, electronic data is transmitted via secure socket layer (SSL) encryption to a secured data center. Computer media are stored within a secured, locked room within the facility. Access to the database is limited to the system administrator, database administrator, and designated support personnel. Paper forms are stored within a secured area within locked cabinets.

RETENTION AND DISPOSAL:

1. Records related to Pending Public Key Certificate Application Files are added as received to an electronic database, moved to the authorized certificate file when they are updated with the required data, and records not updated within 90 days from the date of receipt are destroyed.

2. Records related to the Public Key Certificate Directory are retained in an electronic database, are consistently updated, and records are destroyed as they are superseded or deleted.

3. Records related to the Authorized Public Key Certificate Master File are retained in an electronic database for the life of the authorized certificate.

4. When the certificate is revoked, it is moved to the certificate revocation file.

5. The Public Key Certificate Revocation List is cut off at the end of each calendar year and records are retained 30 years from the date of cutoff. Records may be retained longer with customer consent or request.

6. Other records in this system are retained 7 years, unless retained longer by request of the customer.

Records existing on paper are destroyed by burning, pulping, or shredding. Records existing on computer storage media are destroyed according to the applicable USPS media sanitization practice.

SYSTEM MANAGER(S) AND ADDRESS:

Senior Vice President, Chief Marketing Officer, United States Postal Service, 475 L'Enfant Plaza, SW., Washington, DC 20260.

NOTIFICATION PROCEDURE:

For authentication services, electronic postmarks, and digital certificates, inquiries should be addressed to:

Manager, Business Development and Identity Protection Services, United States Postal Service, 475 L'Enfant Plaza, SW., Room 5806, Washington, DC 20260.

Customers wanting to know if other information about them is maintained in this system of records must address inquiries in writing to the system manager, and include their name and address.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Customers.

Neva Watson,
Attorney, Legislative.

[FR Doc. 05-8444 Filed 4-28-05; 8:45 am]

BILLING CODE 7710-12-P